FEDERAL COMMUNICATIONS COMMISSION

47 CFR Parts 73 and 74

[MB Docket No. 16-142; FCC 25-72; FR ID 317663]

Authorizing Permissive Use of the “Next Generation” Broadcast Television Standard

AGENCY: Federal Communications Commission.

ACTION: Proposed rule.

SUMMARY: In this document, the Federal Communications Commission (Commission) seeks comment on proposed rule changes that would support and accelerate the nation's ongoing market-based broadcast television transition to ATSC 3.0 (or Next Gen TV). The document tentatively concludes that the Commission should eliminate the simulcasting requirement for stations that transition to 3.0, while continuing to permit simulcasting on a voluntary, simplified basis. It also seeks comment on a range of closely related issues and other matters touching on the Next Gen TV transition.

DATES: Comments are due on or before January 20, 2026; reply comments are due on or before February 18, 2026. Written comments on the Paperwork Reduction Act (PRA) proposed information collection requirements must be submitted by the public, Office of Management and Budget (OMB), and other interested parties on or before January 20, 2026.

ADDRESSES: Pursuant to §§ 1.415 and 1.419 of the Commission's rules, 47 CFR 1.415, 1.419, interested parties may file comments and reply comments on or before the dates indicated on the first page of this document. Comments may be filed using the Commission's Electronic Comment Filing System (ECFS). You may submit comments, identified by MB Docket No. 16-142, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities. To request materials in accessible formats for people with disabilities (braille, large print, electronic files, audio format), send an email to fcc504@fcc.gov or call the Consumer & Governmental Affairs Bureau at 202-418-0530.

Comments regarding the PRA proposed information collection requirements. “Currently under 60-day Review—Open for Public Comments” or by using the search function. Your comment must be submitted into www.reginfo.gov per the above instructions for it to be considered. In addition to submitting in www.reginfo.gov, also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information on this proceeding, contact Evan Baranoff, Evan.Baranoff@fcc.gov, of the Media Bureau, Policy Division, (202) 418-2120. Direct press inquiries to MediaRelations@fcc.gov. For additional information concerning the Paperwork Reduction Act information collection requirements contained in this document, send an email to PRA@fcc.gov or contact Cathy Williams, Office of Managing Director, at (202) 418-2918 or Cathy.Williams@fcc.gov.

SUPPLEMENTARY INFORMATION: This is a summary of the Commission's Fifth Further Notice of Proposed Rulemaking (FNPRM), FCC 25-72, adopted on October 28, 2025 and released on October 29, 2025. The full text of this document is available electronically via the FCC's Electronic Document Management System (EDOCS) website at https://docs.fcc.gov/public/attachments/FCC-25-72A1.pdf or via the FCC's Electronic Comment Filing System (ECFS) website at https://www.fcc.gov/ecfs (search using docket number). (Documents will be available electronically in ASCII, Microsoft Word, and/or Adobe Acrobat.)

Paperwork Reduction Act. This document contains possible new or modified information collection requirements. The Commission, as part of its continuing effort to reduce paperwork burdens, invites the general public and the Office of Management and Budget (OMB) to comment on the information collection requirements contained in this document, as required by the Paperwork Reduction Act (PRA) of 1995, Public Law 104-13. Public and agency comments are due January 20, 2026.

Providing Accountability Through Transparency Act: Consistent with the Providing Accountability Through Transparency Act, Public Law 118-9, a summary of this document will be available on https://www.fcc.gov/proposed-rulemakings.

Comments should address: (a) whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) way to further reduce the information collection burden on small business concerns with fewer than 25 employees. In addition, pursuant to the Small Business Paperwork Relief Act of 2002, Public Law 107-198, see 44 U.S.C. 3506(c)(4), the Commission seeks specific comment on how the Commission might further reduce the information collection burden for small business concerns with fewer than 25 employees.

OMB Control Number: 3060-1254.

Title: Next Gen TV/ATSC 3.0 Local Simulcasting Rules; 47 CFR 73.3801 (full-power TV), 73.6029 (Class A TV), and 74.782 (low-power TV) and FCC Form 2100 (Next Gen TV License Application).

Form No.: FCC Form 2100 (Next Gen TV License Application).

Type of Review: Revision of currently approved collection.

Respondents: Business or other for-profit entities, state, local, or tribal government and not for profit institutions.

Number of Respondents and Responses: 1,422 respondents; 11,460 responses.

Estimated Time per Response: 0.017-8 hours.

Frequency of Response: On occasion reporting requirement; Recordkeeping requirement; Third party disclosure.

Obligation to Respond: Required to obtain or retain benefits.

Statutory authority for this collection of information is contained in sections 1, 4, 7, 301, 303, 307, 308, 309, 316, 319, 325(b), 336, 338, 399b, 403, 614, and 615 of the Communications Act of 1934, as amended, 47 U.S.C. 151, 154, 157, 301, 303, 307, 308, 309, 316, 319, 325(b), 336, 338, 399b, 403, 534, and 535.

Total Annual Burden: 3,852 hours.

Total Annual Cost: $147,000.

Needs and Uses: The FNPRM proposes to permit simulcasting stations, upon notice to the Commission, to encode multicast 1.0 streams using MPEG-4.

Synopsis:

I. Introduction

1. America's television broadcasters are in the midst of a transition. They are shifting to a new standard in broadcasting that can deliver significant and new benefits to consumers across the country. Indeed, Next Gen TV, also called ATSC 3.0, represents the future of broadcast television. Next Gen TV promises to revitalize the nation's free, local, over-the-air (OTA) television service, which serves as a vital source of local news and information for many Americans, by enabling significant improvements in picture quality, audio clarity, interactive features, and public safety and accessibility capabilities. We expect this will enable broadcasters to remain competitive in the video marketplace for years to come. To achieve this future, broadcasters have undertaken a complex and challenging technological transition without the allocation of additional spectrum. Broadcasters have made progress toward this transition, having launched ATSC 3.0 (or “3.0”) service in more than 90 markets that include more than 70 percent of the country's population.¹ Actions proposed today support continued progress in the ongoing transition to ATSC 3.0.

¹ Based on a review of internal Commission data. This data reflects 3.0 services offered by over-the-air television stations, but does not reflect the adoption of 3.0 by other stakeholders (i.e., consumers, manufacturers, and multichannel video programming distributors (MVPDs)).

2. Herein we take steps to support and accelerate the nation's ongoing market-based broadcast television transition to ATSC 3.0. We propose to remove unnecessary regulatory obstacles and give substantial flexibility to broadcasters because at this point in the transition they are best positioned to determine how to continue to serve their viewers while rolling out 3.0 services. Most notably, we propose to end the simulcasting requirement. In addition, we seek comment on how to minimize the costs and impact of this transition on all stakeholders, including consumers, manufacturers, MVPDs, and smaller broadcasters.

II. Background

3. In 2017, the Commission authorized television broadcasters to use the ATSC 3.0 transmission standard on a voluntary, market-driven basis.² The Commission required that any broadcaster voluntarily deploying ATSC 3.0 service must, with very limited exceptions,³ continue to air at least their primary stream using the current-generation TV transmission standard, also called “ATSC 1.0” or “1.0.” ⁴ This is because the Next Gen TV standard is not backward-compatible with most existing TV sets or receivers, which have only ATSC 1.0 and analog tuners. Because a TV station cannot, as a technical matter, simultaneously broadcast in both 1.0 and 3.0 format from the same facility on the same physical channel, “local simulcasting” must be effectuated through partnerships that broadcasters seeking to provide Next Gen TV service enter into with other broadcasters in their local markets.⁵ The Commission, however, intended that the local simulcasting requirement be temporary.

² First Next Gen TV Report and Order, 83 FR 4998 (Feb. 2, 2018). Next Gen TV is the new digital TV transmission standard being broadcast by many stations across the country alongside their standard digital TV signals. This internet Protocol-based standard was developed by the Advanced Television Systems Committee (ATSC) with the intent to eventually replace the current digital television standard, ATSC 1.0. It “merges the capabilities of over-the-air broadcasting with the broadband viewing and information delivery methods of the internet, using the same 6 MHz channels presently allocated for DTV service.” Id. As 3.0 proponents have previously explained to the Commission, the greater spectral capacity of the new standard and its internet-Protocol delivery component will allow broadcasters to provide consumers with a higher quality television viewing experience, such as ultra-high-definition (UHD) picture resolutions and immersive audio. It also has the potential to enable broadcasters to reach viewers on both home and mobile screens. In addition, ATSC 3.0 will allow broadcasters to offer enhanced public safety capabilities, such as geo-targeting of emergency alerts to tailor information to particular communities and emergency alerting capable of waking up sleeping devices to warn consumers of imminent emergencies, as well as greater accessibility options, localized content, and interactive educational children's content. The Commission refers to the innovative non-traditional services that Next Gen TV broadcasters may provide over broadcast spectrum as “Broadcast internet” services to distinguish them from traditional over-the-air video services. Such services are also referred to as “ancillary or supplementary services.”

³ LPTV and TV translator stations may deploy ATSC 3.0 service without providing an ATSC 1.0 simulcast signal. In addition, full power and Class A stations may request a waiver of the simulcast requirements. To date, no such waivers have been requested.

⁴ Next Gen TV broadcasters are not required to simulcast their 3.0 multicast streams in a 1.0 format.

⁵ A Next Gen TV station must partner with another television station (i.e., a temporary “host” station) in its local market to either: (1) air an ATSC 3.0 channel at the temporary host's facility, while using its original facility to continue to provide an ATSC 1.0 simulcast channel, or (2) air an ATSC 1.0 simulcast channel at the temporary host's facility, while converting its original facility to the ATSC 3.0 standard in order to provide a 3.0 channel. In either case, a Next Gen TV broadcaster must simulcast the primary video programming stream of its ATSC 3.0 channel in an ATSC 1.0 format, so that viewers will continue to receive ATSC 1.0 service. The Commission stated that, by the time the transition is complete, any temporary authority granted for local simulcasting will expire, and a station will once again be required to air all of its licensed programming on its own single channel. Low power television stations (LPTV) operating in 3.0 are not required to have a 1.0 simulcast.

4. Prior to deploying 3.0 service, stations must file an application with the Commission to modify their existing license and receive Commission approval. Review of applications to deploy ATSC 3.0 service includes consideration of the coverage that would be provided by a Next Gen TV station's ATSC 1.0 simulcast signal.⁶ The Commission sought to minimize disruption to viewers resulting from the deployment of ATSC 3.0 while recognizing that if a station moves its ATSC 1.0 signal to a partner simulcast host station with a different transmitter location, some OTA viewers may no longer be able to receive the station's 1.0 signal unless they acquire a 3.0 capable television receiver. Among other obligations, the Commission requires the Next Gen TV station to select a partner 1.0 simulcast host station that is assigned to its same designated market area (DMA) and from which it will continue to provide ATSC 1.0 simulcast service to its entire community of license. The Commission also stated that an application demonstrating that the station would provide ATSC 1.0 simulcast service to at least 95 percent of the predicted population within the station's original noise limited service contour (NLSC) would be presumptively in the public interest and afforded “expedited processing.” All other applications require a more detailed public interest analysis by the Commission prior to action.

⁶ A Next Gen TV broadcaster must file an application and obtain Commission approval before a 1.0 simulcast channel or a 3.0 channel aired on a partner host station can go on the air, as well as before an existing 1.0 station can convert to 3.0 operation or back to 1.0 operation.

A. Sunsets

5. Substantially Similar Rule. In the First Next Gen TV Report and Order, the Commission adopted a requirement that the programming aired on a Next Gen TV station's ATSC 1.0 simulcast channel be “substantially similar” to that of the primary video programming stream on the ATSC 3.0 channel. This rule, which is distinct from the simulcasting requirement itself,⁷ means that the programming on the two versions of the primary stream must generally be the same. The rule was initially scheduled to sunset on July 17, 2023, and was extended to July 17, 2027.

⁷ The requirement for Next Gen TV broadcasters to simulcast their primary stream in 1.0 format does not have a sunset date.

6. Requirement to Comply with the ATSC A/322 Standard. In authorizing use of the Next Gen TV broadcast transmission standard, the Commission in the First Next Gen TV Report and Order required compliance with only two parts of the ATSC 3.0 suite of standards: (1) A/321, the standard used to communicate the RF signal type that the ATSC 3.0 signal will use; and (2) A/322, the standard that defines the waveforms that ATSC 3.0 signals may take.⁸ In requiring compliance with A/322, the Commission observed that “device manufacturers and MVPDs may not be able to reliably predict what signal modulation a broadcaster is using unless broadcasters are required to follow A/322,” at least with respect to their required primary programming stream. The Commission explained that “[t]his uncertainty could cause manufacturers to inadvertently build equipment that cannot receive Next Gen TV broadcasts or could render MVPDs unable to receive and retransmit the signals of Next Gen TV stations. These outcomes would harm consumers.” The Commission, however, decided that it was not appropriate at the time “to require broadcasters to adhere to A/322 indefinitely,” explaining that “the ATSC 3.0 standard could evolve, and stagnant Commission rules could prevent broadcasters from taking advantage of that evolution.” The Commission thus determined that the requirement to comply with the A/322 standard would expire on March 6, 2023, which was later extended until July 17, 2027.

⁸ These two standards were incorporated by reference into the Commission's rules.

B. NAB Petition To Accelerate Transition and FOTVI Report

7. In January 2025, the National Association of Broadcasters (NAB) filed a report summarizing the discussions and progress made through the Future of Television Initiative (FOTVI), and in February 2025, NAB filed the Petition asking the Commission to “establish a clear timeline to complete the transition” to ATSC 3.0. In April 2025, the Media Bureau issued a Public Notice seeking comment on NAB's Petition, the FOTVI Report, and other related issues.⁹ The Bureau received more than 900 comments and replies in response. The comment cycle closed on June 6, 2025.

⁹ Among other things, the Bureau sought comment on the use of MPEG-4 compression for 1.0 simulcast signals and the use of Digital Rights Management (DRM) encryption on 3.0 signals.

8. Petition. NAB proposes that the Commission mandate a two-part deadline to complete the full-power 3.0 transition. Per the NAB proposal, full-power stations in the top 55 markets (available to about 70 percent of viewers in the country) would be required to transition fully to ATSC 3.0 (i.e., end all ATSC 1.0 broadcasting, including simulcasting) in February 2028, with limited waivers for “smaller,” independent, and noncommercial stations if necessary. Full-power stations in the remaining markets would be required to transition fully to ATSC 3.0 in February 2030.¹⁰ NAB contends that “[w]ithout decisive and immediate action, the transition risks stalling” and that “[r]eaching the finish line requires industry-wide coordination and engagement—something individual broadcasters cannot do alone.”

¹⁰ NAB “does not recommend subjecting low power television (LPTV) stations or TV translator stations to any requirement to transition to ATSC 3.0.”

9. NAB also proposes that the Commission impose a mandate on television manufacturers to “ensur[e that] consumers who buy new TVs can continue receiving broadcast programming.” Specifically, NAB asks the Commission to amend section 15.117 of its rules to require that all TV broadcast receivers include 3.0 tuners, pursuant to the Commission's authority under the 1962 All Channel Receiver Act (ACRA).¹¹ According to NAB, “[b]roadcasters would support removing the requirement to include an ATSC 1.0 tuner after the date at which all full-power and class A broadcasters cease transmitting in ATSC 1.0.” NAB also requests that the Commission re-examine what it means to “adequately receive” television channels, as well as “consider adopting a requirement that television receivers make broadcast services available to a consumer in the same or fewer steps needed to access any other video content on the same device.”

¹¹ Section 15.117(b), the rule implementing the Commission's authority under the 1962 All Channel Receiver Act (ACRA), states that “TV broadcast receivers shall be capable of adequately receiving all channels allocated by the Commission to the television broadcast service.” The term “TV broadcast receivers” includes “devices, such as TV interface devices and set-top devices that are intended to provide audio-video signals to a video monitor, that incorporate the tuner portion of a TV broadcast receiver and that are equipped with an antenna or antenna terminals that can be used for off-the-air reception of TV broadcast signals, as authorized under part 73 of this chapter.”

10. In addition, NAB asks the Commission to consider whether updates to the MVPD carriage rules are necessary. NAB indicates that some rules, particularly those related to must-carry signals, may need to be revised, such as the “good quality signal” rule. Further, NAB asks the Commission to clarify and/or update certain rules to accelerate deployment. NAB argues that the Commission should relax the 95 percent coverage requirement for expedited application processing and clarify that this coverage requirement should not apply to multicast streams. NAB also urges the Commission to act now to eliminate the “substantially similar” requirement, rather than wait for the scheduled sunset in 2027. Finally, NAB suggests that the Commission should update the incorporations by reference in the rules to the current versions of the ATSC 3.0 standards, ATSC A/321 and ATSC A/322, and may want to consider a variety of other possible changes.¹²

¹² Among the other issues listed are encoding, privacy, and accessibility.

11. Future of Television Initiative Report. Launched in April 2023 by NAB, the FOTVI gathered industry, public interest stakeholders, and government ¹³ to work on a roadmap for the transition of television broadcast from the currently required ATSC 1.0 protocol to ATSC 3.0. The FOTVI Report summarizes the discussions of three working groups, which addressed (1) backwards compatibility, tuner availability and consumer issues; (2) completing the transition; and (3) post-transition regulation.¹⁴ NAB states that it intends the FOTVI Report “will provide the Commission with a better understanding of the remaining issues and concerns of stakeholders and put the Commission in a better position to continue with the rulemaking proceedings necessary to complete a successful transition to ATSC 3.0.”

¹³ FCC staff participated in the Working Groups but did not contribute to the preparation of the FOTVI Report.

¹⁴ More specifically, each working group addressed the following issues. Working Group 1—solutions to address backwards compatibility (e.g., tuner availability, converter devices) and the challenges to these solutions; methods to ensure widespread access to backwards compatibility solutions while protecting consumers; minimizing negative consumer impact; loss of traditional television service, inconvenience, costs; availability and pricing of consumer equipment (televisions, handsets, etc.); and consumer education responsibilities and plans. Working Group 2—minimizing negative consumer impact; availability and pricing of consumer equipment; consumer education responsibilities and plans; simulcasting (under what conditions it may end and whether it would continue to be permissible); managing ATSC 1.0 and ATSC 3.0 capacity as more stations transition; and tuner and labeling standards. Working Group 3—MVPD carriage of 3.0 signals; existing public interest obligations of broadcasters and potential regulatory changes to reflect ATSC 3.0 transmission; privacy and security for viewers and viewing information; accessibility of ATSC 3.0 programming; and whether all ATSC 1.0 transmission must eventually end.

C. Current 3.0 Deployment Status

12. The Commission has been monitoring the pace of the deployment of ATSC 3.0 both nationally and market-by-market, including the rollout of 3.0 service by television broadcasters, the penetration of ATSC 3.0-ready TV sets and other converter equipment, and the extent to which MVPDs have deployed 3.0 equipment. Broadcasters have launched full-power Next Gen TV service in more than 80 markets that contain more than 70 percent of the population.¹⁵ In addition, the FOTVI Report states that more than 14 million ATSC 3.0-capable sets and 300,000 external 3.0 converters were sold through 2024. Further, CTA estimates that by 2028 more than half of TV sets sold each year will have 3.0 tuners even absent Commission action. We are not aware of any MVPDs that are carrying 3.0 signals.¹⁶

¹⁵ Based on a review of internal Commission data there are more than 90 markets where ATSC 3.0 has been authorized when considering all classes of TV stations (i.e., full power, Class A, and LPTV).

¹⁶ NCTA notes that ATSC has yet to complete its work on recommended practices for redistribution of ATSC 3.0 signals. Additionally, NCTA states that “none of [its] cable operator members will be able to carry 3.0 signals without first making costly changes to their networks.”

III. Discussion

13. With this Fifth Further Notice of Proposed Rulemaking (FNPRM), we seek to eliminate unnecessary regulatory barriers that hinder continued progress toward a transition to ATSC 3.0, as well as to facilitate the expansion of Next Gen TV service by giving more flexibility to broadcasters and so that viewers can reap the full benefits of this service. First, we make specific proposals and tentative conclusions to further this goal. Second, we seek comment on certain, closely related issues, including an ATSC 3.0 tuner requirement, encryption of broadcast signals, and MVPD carriage of 3.0 signals, in light of our proposals and tentative conclusions, as well as on other outstanding ATSC 3.0 issues.

A. Accelerating the ATSC 3.0 Transition and Promoting Broadcaster Flexibility

14. We propose to permit stations to continue to voluntarily transition from a 1.0 signal to a 3.0 signal (or continue to operate in 3.0) while giving them greater freedom to serve the specific needs of their local markets and expeditiously provide next generation television services to viewers. First, we tentatively conclude that we should eliminate the 1.0 simulcasting requirement for stations that transition to 3.0. Second, we tentatively conclude that for stations that wish to continue simulcasting in 1.0 we will continue to permit such operations on a voluntary, simplified basis, by eliminating the “substantially similar” rule and the 95 percent coverage threshold for expedited processing. Third, we propose to permit the use of MPEG-4 on 1.0 streams in certain situations to help enhance broadcasters spectral capacity and thereby facilitate simulcasting until broadcasters and their viewers are ready for a full transition to 3.0. We seek comment on these tentative conclusions and proposals.

1. Transitioning to ATSC 3.0 and Simulcast Termination

15. We tentatively conclude that we should eliminate the 1.0 simulcasting requirement for stations that wish to transition or have transitioned their facilities to 3.0 service. As the Commission made clear at the outset of the 3.0 transition, this requirement was always intended to be temporary, and we believe the time has come for it to be eliminated. Broadcasters have explained that transmitting in both 3.0 and 1.0 “takes enormous capacity and creates significant constraints on what services all participating broadcasters can offer.” Specifically, transitioning broadcasters are generally relying on one or two ATSC 3.0 “lighthouses” ¹⁷ in each market, limiting each participant to “only a small fraction of the features” that would be possible if they could devote their entire channel capacity to 3.0. As a result, they have struggled to demonstrate the full array of improvements made possible by this new innovative technology. Based on the Commission's observation of the market since 2017, we have come to believe that while simulcasting remains important for protecting viewers during the transition period, at this stage broadcasters have strong market incentives to continue to effectively serve their viewers.

¹⁷ A 3.0 “lighthouse” refers to a single host station in a market that operates in 3.0 and hosts the signals of several other 3.0 (guest) stations in the market.

16. As discussed by the Commission in the First Next Gen TV Report and Order, “[s]tations that do not preserve service coverage or quality will suffer financially due to lost viewership and thus advertising revenue.” In fact, according to the Commission's 2024 Communications Marketplace Report, over half of broadcaster revenue is derived from advertising. Viewers have clear expectations when it comes to the quality of programming they expect from broadcasters and in the current marketplace failure to meet those exceptions will likely drive viewers to other sources for their video programming, such as MVPDs or streaming services. As noted by NAB, “market dynamics are likely to ensure that popular programming remains widely accessible” and as such “[b]roadcasters have no financial incentive to restrict their highest-value content to the still-limited ATSC 3.0 audience.” Broadcasters have also demonstrated the continued importance they place on 1.0 streams through their actions during the transition. Despite Next Gen TV broadcasters not being required to maintain their multicast streams in a 1.0 format, to the Commission's understanding all full power Next Gen TV stations have chosen to preserve their multicast streams under our voluntary 3.0 multicast licensing rules. We believe we can rely on these incentives and marketplace realities to allow broadcasters to decide how and when to move forward with full 3.0 service. We seek comment on these and any additional incentives or factors we should consider when determining whether to eliminate the simulcast requirement as proposed. How does the benefit of removing the simulcast requirement in order to help broadcasters expedite deployment of new enhanced ATSC 3.0 services to consumers balance against the potential costs to consumers who may not yet have 3.0 capable devices and may lose access to OTA 1.0 service? How many households have a TV with an ATSC 3.0 enabled television set or use an ATSC 3.0 converter device? Are there any alternatives to entirely eliminating the simulcast requirement that would still allow broadcasters to more easily deploy 3.0 service and demonstrate to consumers the enhanced features and innovative offerings enabled by 3.0 while continuing to preserve 1.0 service for viewers that do not have the capability to receive 3.0 signals and providing certainty to broadcasters that their signals will be received?

17. We also tentatively conclude that if the simulcast requirement is eliminated as proposed, stations should continue to be free to switch between 1.0 and 3.0 as market conditions dictate, subject to our application and viewer/MVPD notification processes. We seek comment on this conclusion. Some commenters, such as ATVA, express concern that revenue derived from new Broadcast internet services may skew broadcasters' market incentives. However, we tentatively agree with broadcasters, such as Gray, who explain that “datacasting will supplement and support video broadcasting” and “not replace it.” ¹⁸ Broadcasters will also remain required to provide a minimum level of broadcast service under our rules.

¹⁸ Gray cites a BIA Kelsey estimate predicting that datacasting may generate $8.7 billion annually. This figure taken together with projections of advertising and retransmission consent revenue suggests that datacasting could make up roughly 20% of broadcast station revenue by 2029.

18. We seek comment on whether to make these new rules effective 30 days after Federal Register publication of an Order adopting this proposal, or on a specific date. If on a specific date, we seek comment on why the proposed date is appropriate. Alternatively, we seek comment on whether we should instead adopt a penetration level and/or market availability threshold for 3.0 receivers that would trigger the elimination of the simulcast requirement; for example, requiring that a certain percentage of viewers in a market have 3.0 devices, or a certain number of 3.0 devices be available for sale in that market, before local broadcasters could cease 1.0 broadcasting. What would be the benefits or burdens of such an approach for consumers, broadcasters, and other stakeholders? We also tentatively conclude that stations seeking to transition without a simulcast host (i.e. “flash-cut” from 1.0 to 3.0 service), or Next Gen TV stations that wish to end an existing 1.0 simulcast, must file a Next Gen TV license application. We seek comment on this tentative conclusion and comment on any questions we need to update in our forms if we eliminate the simulcast requirement.

19. Finally, we propose to state explicitly in our rules that the existing viewer and MVPD notice requirements for stations also apply to a station that chooses to operate in 3.0 without a simulcast host partner. Although our rules already do not require LPTV and TV translator stations to simulcast, we propose to clarify our part 74 rules to make clear a station's viewer and MVPD notice requirements when it has chosen to simulcast and subsequently decides to terminate 1.0 service. We seek comment on these proposals.¹⁹

¹⁹ We remind stations that when a station flash-cuts to ATSC 3.0 or terminates its 1.0 simulcast, it is required to comply with all applicable part 73 and 74 rules that would otherwise be applicable to the station if it were operating in 1.0. Our proposals are not intended to impact a broadcaster's ability to operate as a 3.0 guest. ATSC 3.0 guest stations will continue to be required to be located in the same DMA as their host station and enter into a “simulcasting agreement.” Commonly-owned stations do not have to enter into a written simulcasting agreement.

2. Voluntary Simulcasting

20. While we tentatively conclude that we will end the requirement for simulcasting by Next Gen TV broadcasters, we also tentatively conclude that we will continue to permit simulcasting on a voluntary basis. Local simulcasting of 1.0 streams remains an important tool for broadcasters during the transition to reach broadcast viewers within their communities that do not yet have 3.0 capable receivers, and we expect some broadcasters will want to continue to voluntarily simulcast for some time.²⁰ We tentatively conclude, however, that we should also make certain changes to our local simulcasting rules to incentivize and ensure broadcasters have flexibility to transition to 3.0 while also being able to serve their 1.0 viewers to the greatest extent possible. First, we propose to immediately eliminate the “substantially similar” rule, allowing broadcasters to choose how to divide their programing between 1.0 and 3.0 signals. Second, we propose to eliminate the coverage threshold for expedited processing, affording expedited processing to all applicants satisfying the DMA and community of license (COL) coverage requirements. Finally, we propose to permit a simulcasting station to encode at least a portion of its 1.0 signal using MPEG-4, allowing more efficient use of what we anticipate will be increasingly limited 1.0 capacity. We discuss these proposals in turn below.

²⁰ We note that broadcasters have indicated that they were “unlikely” to stop 1.0 simulcasting “until most consumers can receive ATSC 3.0 signals.”

21. Substantially Similar Rule. We propose to eliminate the “substantially similar” requirement immediately upon Federal Register publication of an Order adopting this proposal. In 2023, the FCC scheduled this requirement to sunset in July of 2027. We now believe that the persistence of the rule beyond the end of simulcasting requirement could discourage broadcasters from choosing to simulcast in 1.0 on a voluntary basis. However, even in the event that we do not adopt our proposal to eliminate the simulcasting requirement, we still independently tentatively conclude that we should eliminate the substantially similar rule as proposed. While the existing rule aims to provide flexibility to innovate, some broadcasters have reported that the substantially similar requirement is preventing plans to develop innovative programming. We tentatively find such arguments are compelling, including NAB's argument that the rule may undermine the transition it purportedly supports if it discourages broadcasters “from using ATSC 3.0's capabilities to offer differentiated programming that could drive Next Gen TV consumer interest and adoption.” We recognize that the Commission has previously expressed concern about whether market incentives alone would protect viewers who rely on 1.0 service, but upon further consideration we believe at this stage of the transition more weight must be given to how the rule now appears to be inhibiting the transition and preventing broadcasters from providing new innovative offerings and services enabled by 3.0 to consumers.²¹ As previously discussed in the context of the simulcast requirement, we also believe significant market incentives exist that will preserve access to existing 1.0 service. We seek comment on these proposals and tentative conclusions.

²¹ Although as of today 3.0 service has been launched by full power stations in more than 80 markets, based on a review of Commission databases by Media Bureau staff, only seven new markets have launched 3.0 service since January 2024.

22. Expedited Processing. We propose to eliminate the 95 percent coverage threshold for expedited processing,²² affording such processing to all applicants satisfying the DMA and COL coverage requirement (i.e., serving their entire COL).²³ We tentatively agree with NAB that a rigid coverage threshold for expedited processing “creat[es] unnecessary roadblocks for broadcasters seeking to bring ATSC 3.0 services to their communities,” and that the persistence of such a coverage requirement for expedited processing after the end of the simulcasting requirement would only discourage broadcasters from choosing to simulcast in 1.0 on a voluntary basis. However, even in the event that we do not adopt our proposal to eliminate the simulcasting requirement, we still tentatively conclude that we should eliminate the coverage threshold for expedited processing and afford such processing to all applicants satisfying the DMA and COL coverage requirement. We seek to provide broadcasters with flexibility to deploy and/or expand 3.0 service. As discussed above, we tentatively conclude that broadcasters have strong market incentives to preserve viewership during the transition, and they are best positioned to determine how to most effectively serve their viewers.

²² The Commission stated that it expected the Media Bureau “generally will be able to process applications qualifying for expedited processing within 15 business days after public notice of the filing of such applications.” Stations that do not qualify for expedited processing will continue to be considered on a case-by-case basis, generally within 60 business days after public notice of the filing of such applications.

²³ All full power Next Gen TV license applicants “must continue to cover the station's entire community of license (i.e., the station must choose a host from whose transmitter site the Next Gen TV station will continue to meet the community of license signal requirement over its current community of license, as required by § 73.625) and the host station must be assigned to the same Designated Market Area (DMA) as the originating station. . . .).” For purposes of Class A, LPTV, and TV translator stations when the term “COL” is used we mean the coverage requirements for those classes of stations set forth in our 3.0 rules (applying the existing 30-mile and contour overlap restrictions that apply to low power because Class A, LPTV, and TV translator stations do not have a COL signal requirement). We also propose to modify 47 CFR 73.3801(c) to update the reference to the community of license rule, which was moved from former 47 CFR 73.625(a) (2024) to 47 CFR 73.618. We seek comment on this proposal.

23. Consistent with this proposal, we propose to revise our children's television multicast coverage rule to require only COL coverage for full power stations, rather than 95 percent population coverage.²⁴ We also propose to allow Class A stations to air children's programming on a multicast stream so long as its multicast stream host complies with the coverage requirements of section 73.6029(c).²⁵ In addition, we propose to modify sections 73.3801(i), 73.6029(i), and 74.782(j) to eliminate from our 3.0 multicast licensing rules the expedited processing exception related to multicast streams. In the Third Report and Order, the Commission excluded multicast stream coverage from consideration under expedited processing. By eliminating the 95% threshold for expedited processing, both multicast and primary streams will have the same simulcast coverage requirements and the exception in the 3.0 multicast rules is no longer necessary. Under this proposal all simulcast applications (primary streams and multicast streams) will be eligible for expedited processing so long as a station's 1.0 host is located in the same DMA and covers its COL.²⁶ We seek comment on these proposals and tentative conclusions.

²⁴ Under our 3.0 multicast rules, a station that covers less than 95% of its 1.0 coverage area is not permitted to use any programming aired on its simulcast multicast stream for purposes of compliance with 47 CFR 73.671. We propose to adopt this rule change independent of whether we eliminate the simulcasting or substantially similar requirement.

²⁵ In a separate proceeding the Commission has proposed to modify the so-called “30 mile rule,” which limits Class A and LPTV station facility relocations to 30-miles from the station's antenna reference coordinates. In order to ensure consistency with whatever rule is adopted, we propose to amend 47 CFR 73.6029(c) and 74.782(d) to align with the distance requirement of 47 CFR 74.787(b). We also propose to delete 47 CFR 74.782(j)(3) because LPTV stations are not required to comply with the Commission's children's television programming requirement in 47 CFR 73.671. We seek comment on these proposals.

²⁶ In furtherance of this proposal we also propose to eliminate the word “primary” from the expedited processing rule to make it applicable to all streams.

24. MPEG-4. We propose to permit simulcasting stations, upon notice to the Commission, to encode multicast 1.0 streams using MPEG-4, and we seek comment on this proposal. We therefore also propose to incorporate by reference into the rules ATSC Standard A/72, Part 1:2023-04. MPEG-4 is a more efficient compression method than that contained in our rules, allowing a larger number of streams using the same capacity.²⁷ Under our current rules, broadcasters transmitting in 1.0 must comply with the ATSC A/53 standard (which includes only MPEG-2), and there is evidence that some older digital televisions cannot display programming encoded using MPEG-4. Commenters have argued in the record that the “great majority of televisions in American households today can decode MPEG[-]4 transmissions.” ²⁸ The Media Bureau has also permitted simulcasting stations to use MPEG-4 for multicast streams to increase the preservation of 1.0 service.²⁹ As Sinclair explains, “by allowing broadcasters to compress more content into less spectral capacity, MPEG[-]4 may allow broadcasters in many markets to deploy an additional ATSC 3.0 facility, beyond the single stick typically operating in most markets.” Further, according to Sinclair, “the use of MPEG[-]4 may allow broadcasters to preserve all current content during the transition, rather than forcing broadcasters to drop channels or lower resolution.”

²⁷ MPEG-4 not only permits a larger number of streams, but also enables stations to potentially provide more higher quality streams.

²⁸ Our understanding is that, generally, a TV set with streaming functionality (or “smart” TV) will support MPEG-4 video. We seek comment on this assumption.

²⁹ While we do not disturb the applications granted by the Bureau, we note that free, OTA broadcast streams transmitted to viewers may not be considered ancillary and supplementary. Our proposal is also consistent with the Bureau's current practice. We are also aware of stations not engaged in simulcasting that have adopted the use of MPEG-4 on multicast streams.

25. We tentatively conclude that while some viewers with older TV equipment could lose access to 1.0 service if broadcasters choose to use MPEG-4, we expect broadcasters that are simulcasting multicast streams will weigh this potential loss of 1.0 service against the benefits of expanded 3.0 service. While our understanding is that virtually all 1.0 TV sets and equipment manufactured today include decoding capability for MPEG-4, we seek comment on this. What is the current penetration level and market availability of MPEG-4-capable receivers? Is MPEG-4 appropriate in some situations to provide broadcasters with flexibility as they begin to expand 3.0 services? We seek comment. We also seek comment on whether we should permit the use of MPEG-4 on the primary streams of simulcasting stations in the process of transitioning to 3.0, and if so in what circumstances.³⁰ We separately seek comment on whether MPEG-4 use should also be permitted for 1.0 multicast streams on 1.0-only stations, regardless of whether they are part of a 3.0 arrangement. In each circumstance proposed above, are there penetration and/or market availability levels that we should consider before providing broadcasters with the option to use MPEG-4 at their discretion? If so what should be those levels and why?

³⁰ Potentially limited to specific situations such as a 1.0 “nightlight,” when one or a few stations in a market remain in 1.0 to simulcast their own and other stations' primary streams during the final phase of a market's transition.

26. We recognize that adding MPEG-4 to the digital transmission standard in § 73.682(d) would require all new TV receivers to include decoding capability for MPEG-4 pursuant to § 15.117(b). Given our understanding that virtually all 1.0 TV sets and equipment manufactured today include decoding capability for MPEG-4, we believe equipment manufacturers would be able to comply with such a requirement, but seek comment on this issue. Specifically, if MPEG-4 is permitted for any broadcasters, we seek comment on our proposal to incorporate by reference ATSC Standard A/72, Part 1:2023-04 to § 73.3800(a) and to the broadcasting standard in § 73.682(d) of our rules (thus requiring manufacturer compliance). Alternatively, we seek comment on whether we should provide an exception in § 15.117(b) in the same manner as the 3.0 standard in § 73.682(f) of our rules (which did not impose a requirement on manufacturers). Should such an exception be limited to smaller manufacturers or include a labeling requirement (i.e., identifying equipment that lacks decoding capability for MPEG-4)? What if any impediments exist that could restrict the implementation of MPEG-4 for manufacturers if it were required by our rules? If use of MPEG-4 is permitted more broadly (rather than limited to simulcast stations), would an exception in § 15.117(b) still appropriate? Why or why not? We also seek comment on whether any approach adopted requires corresponding changes elsewhere in our rules; for example, if MPEG-4 is permitted but limited to 3.0 multicast streams, should there also be changes to §§ 73.3801(i), 73.6029(i), and 74.782(j) to reflect this flexibility?

27. Other Changes. Should we make any other changes to the voluntary simulcasting rule or our licensing processes in order to facilitate and promote continued simulcasting during the remainder of the transition? ³¹ For example, should we eliminate or provide for streamlined waivers of the DMA and/or COL coverage requirements for simulcasting stations during the final phase of a market's transition? Should we streamline the information required to be submitted in support of 3.0 license applications? We seek comment on these and any other potential changes.

³¹ Among other things, the simulcasting rule requires broadcasters to: (1) maintain a written copy of any simulcasting agreement and provide it to the Commission upon request; (2) use a host in the same DMA and provide coverage to the entire community of license (COL); (3) provide on-air notices to viewers via daily Public Service Announcements (PSAs) or crawls every day for 30 days prior to the date that the station will terminate ATSC 1.0 operations (e.g., moving to a host station's facility, subsequently moving to a different host, or returning to its original facility); and (4) provide notices to MVPDs at least 90 days in advance of relocating ATSC 1.0 streams. In addition, under current 3.0 application procedures a station that is newly constructed and that has never operated before, but wishes to commence its operations in 3.0, must first file an application for license to cover and then file a license modification application. Further program test authority does not apply to 3.0 license applications as they require Commission approval prior to a station providing 3.0 service.

B. Issues Related to Next Gen TV

28. In this section, we seek comment on a variety of issues related to the ATSC 3.0 transition. We have previously received comments on many of these issues in the context of NAB's proposal for a mandatory transition. Here, we consider these issues in light of our proposal to eliminate the simulcasting requirement and our goal to eliminate regulatory barriers that are hindering adoption of ATSC 3.0 technology. Specifically, we seek comment on an ATSC 3.0 tuner requirement, encryption of broadcast signals, and MVPD carriage of 3.0 signals.

1. Next Gen TV Tuner Mandate

29. We seek comment on whether we should require at some point in time that all new TV broadcast receivers be capable of adequately receiving and displaying ATSC 3.0 signals. Although the record reflects that the number of ATSC 3.0-capable devices sold continues to grow each year, the vast majority of sets in use continue to be limited to ATSC 1.0 signals. The Communications Act of 1934, as amended (the “Communications Act” or the “Act”), provides that the Commission “from time to time, as public convenience, interest, or necessity requires, shall” have the “authority to require that apparatus designed to receive television pictures broadcast simultaneously with sound be capable of adequately receiving all frequencies allocated by the Commission to television broadcasting. . . .” Pursuant to this authority, the Commission requires that TV broadcast receivers ³² be capable of adequately receiving digital television (DTV or ATSC 1.0) signals. In the First Next Gen TV Report and Order, however, the Commission found that the statute leaves it to the Commission's discretion when to require that television receivers must be capable of receiving all television broadcast frequencies and opted against requiring that TV broadcast receivers include ATSC 3.0 tuners, observing at that time that “the deployment of ATSC 3.0 will be voluntary and market-driven and that broadcasters will continue to transmit ATSC 1.0 signals indefinitely.”

³² The term “TV broadcast receivers” includes “devices, such as TV interface devices and set-top devices that are intended to provide audio-video signals to a video monitor, that incorporate the tuner portion of a TV broadcast receiver and that are equipped with an antenna or antenna terminals that can be used for off-the-air reception of TV broadcast signals, as authorized under part 73 of this chapter.”

30. We seek comment on the benefits and costs of adopting an ATSC 3.0 tuner requirement at this time. CTA contends that the marketplace is working and that a 3.0 tuner mandate is unnecessary.³³ CTA argues that imposing a mandate “before broadcasters have adopted and promoted NEXTGEN TV on a nationwide basis, and thus before there is adequate indication of consumer interest or demand,” would be “misguided.” NAB contends, however, that a 3.0 tuner mandate is needed to break “the cycle of hesitation.” That is, NAB contends that manufacturers do not want to include 3.0 tuners in more devices until there is consumer demand, and most consumers will not demand 3.0 devices until broadcasters “offer something they cannot get without it.” Meanwhile, NAB asserts, broadcasters cannot provide such offerings until they stop simulcasting and viewers have 3.0 devices. NAB notes that the DTV tuner mandate in 2002 was similarly intended to break this problem cycle. NAB also argues that a 3.0 tuner mandate is needed to protect consumers, stating that “[c]onsumers buying new televisions after stations have stopped broadcasting in ATSC 1.0 should not have to worry about whether their brand-new device can receive all channels.” We seek comment on these points. We also seek comment on whether manufacturers should be allowed to choose whether to include only a 1.0 or 3.0 tuner, and our authority to provide such flexibility. What would be potential benefits and costs of such an approach?

³³ CTA also adds that a 3.0 tuner mandate is “unnecessary” and “would run directly counter to the FCC's (and the Administration's) strong policy preference to focus on deregulation.”

31. Costs. We also seek comment about the costs of a 3.0 tuner requirement for manufacturers and, in turn, the costs for consumers. In a survey of six 55-inch 4K resolution, mini-LED QLED TV sets from a national retailer, CTA found that the ATSC 3.0 TV sets were, on average, $80 more expensive than the ATSC 1.0 sets. We seek comment on this estimate and request further cost comparisons of ATSC 3.0 and ATSC 1.0 sets. What are the reasons for this cost difference? Would a tuner mandate lower the cost of ATSC 3.0 sets, for instance through economies of scale or for other reasons? Are there other costs that should be considered related to a tuner mandate and what are those costs and who would bear them?

32. Implementation. If we decide to adopt a 3.0 tuner requirement, how should we implement the requirement? For instance, we recognize that, if adopted, manufacturers would need lead time to comply with a 3.0 tuner requirement. How much lead time would be needed? What challenges do manufacturers face? What lessons should be learned from the DTV transition with respect to lead time and implementation generally? Should we phase-in the requirement starting with TV sets with larger screens, as was done in the 2002 DTV Tuner Order? Should we afford smaller equipment manufacturers additional time to come into compliance and, if so, how much more time and how should we define small for these purposes? ³⁴

³⁴ For example, we note that the SBA small business size standard for Television Sets Manufacturing classifies businesses having 1,250 employees or less as small.

33. Labeling Requirement. We also seek comment on whether, if we were to adopt an ATSC 3.0 tuner mandate, we also should require informational labeling by wholesalers and retailers of any TV broadcast receivers which do not include an ATSC 3.0 tuner. Would this ensure that consumers have the necessary information at the point of purchase to decide if they wish to buy a television that has only an ATSC 1.0 tuner? During the DTV transition, the Commission adopted point of sale disclosure (or “labeling”) requirements for analog-only television equipment after adopting the DTV tuner requirement. We seek comment on whether we should adopt such a requirement for ATSC 1.0-only TV broadcast receivers, and we seek comment on the costs and benefits of such a requirement as well as the Commission's statutory authority for imposing such requirements.

34. NAB's User Interface Proposal. We also seek comment on NAB's proposal that the Commission require television receivers to “make broadcast services available to a consumer in the same or fewer steps needed to access any other video content on the same device.” CTA contends that the Commission lacks authority to adopt such a requirement. CTA also argues that micromanaging user interface designs would be “bad policy.” NAB itself acknowledges that the “Next Gen TV devices currently on the market, for the most part, do provide an easy method for viewers to access television” and that “the Commission need not resolve this concern prior to moving forward.” We seek comment on these points and the need for such a requirement at this time. We seek comment on the costs and benefits of such a requirement and on our statutory authority for imposing such a requirement.

35. In addition to the specific issues noted above, we seek comment generally on any other matters related to a 3.0 tuner mandate, including but not limited to matters raised in the existing record.

2. Encryption of OTA Broadcast Signals

36. We seek comment about whether we should adopt standards and/or rules concerning the encryption and/or signing of free, OTA television broadcast signals and what authority the Commission has to impose such standards and/or rules. Encryption scrambles data in such a way that it can be accessed only with a digital “key.” Digital Rights Management (DRM) is a type of encryption that can be used for protecting digital content and is contemplated by the ATSC 3.0 Standard. Signal signing is an encrypted method of authenticating a broadcast signal. It confirms that the signal originated with a specific signer (station), and that it has not been altered since it was signed. The ATSC 3.0 Security Authority (A3SA), a private entity founded by the major broadcast networks and large broadcast companies, is currently administering the broadcaster DRM encryption and signal signing programs.³⁵ A3SA argues that encryption is “essential for the security of broadcast transmissions, applications and content” and “insures [sic] NextGen broadcasts meet the standards specifications, can work correctly with receivers, provide viewers with internet level security, allows broadcasters to protect content from piracy and provides for future monetization opportunities.” ³⁶ As this DRM encryption program has been deployed and stations have begun to encrypt 3.0 signals that previously aired without encryption, however, many viewers have been unable to watch certain 3.0 signals on equipment they purchased specifically for that purpose.³⁷ This has led to thousands of consumer comments in this docket opposing the use of encryption on free OTA broadcast signals, many filed by early adopters of ATSC 3.0 technology even before the Commission's most recent public notice. We acknowledge the widespread consumer frustration expressed in these filings. We seek to ensure the public's ability to easily watch stations' free OTA signals in ATSC 3.0 just as they do today. We also seek to provide regulatory certainty to equipment manufacturers (including those who incorporate decryption keys/capabilities in their devices) and ensure that broadcasters' chosen encryption regime, if any, does not impose unreasonable costs and burdens on them, particularly if we decide to adopt a 3.0 tuner requirement.

³⁵ Specifically, A3SA's “founding members” are “ABC, CBS, Fox, NBCUniversal, Univision, and the Pearl TV business group of eight broadcast companies.” Pearl TV's website states that it currently consists of “nine of the largest broadcast companies in America including: Cox Media Group, the E.W. Scripps Company, Graham Media Group, Hearst Television Inc., Gray Television, Sinclair Broadcast Group and TEGNA, Inc.” According to its website, “A3SA provides device manufacturers and broadcasters with access to standardized protection and security credentials that enable secure delivery of high-value television content while adding new features to free over-the-air television that protect viewers of that content wherever they live.” A3SA states that its content security “utilizes the same encryption technology used by internet streaming services.”

³⁶ According to the A3SA website, “[t]he ATSC 3.0 standard specifies service and content protection systems that are essential for the security of broadcast transmissions, applications and content. Implementing these systems insures NextGen broadcasts meet the standards specifications, can work correctly with receivers, provide viewers with internet level security, allows broadcasters to protect content from piracy and provides for future monetization opportunities. The A3SA (ATSC 3.0 Security Authority) was created by the major networks and large broadcast groups, in consultation with the Consumer Technology Association (CTA), to implement these ATSC standards.”

³⁷ Many of these commenters are users of SiliconDust's HDHomeRun gateway device. Despite it being the first commercially-available ATSC 3.0 receiver box in the market (in October 2020), as well as the best-selling 3.0 receiver box on Amazon today, SiliconDust's HDHomeRun has not been able to obtain the necessary decryption approvals. A3SA and SiliconDust have blamed each other for this impasse.

37. A3SA Requirements. As an initial matter, we seek more information about the A3SA and the requirements it imposes on broadcasters and 3.0 equipment manufacturers seeking to encrypt or decrypt broadcast programming. We note that A3SA does not appear to have a formal relationship with the ATSC, nor does it appear to be a standards-setting organization. We seek comment on these points. To what extent does A3SA operate independently of its broadcaster and broadcast network founders in relationships with manufacturers and smaller broadcasters? A3SA states that it “makes available a platform and infrastructure for content security, establishes implementation compliance rules, facilitates interoperability between broadcasters and devices, and provides a means for third party certification or self-certification.” According to A3SA's website, “[a]ll stations are required to have A3SA and Widevine licenses.” We seek comment on these licenses and what is needed to obtain and retain them over time. We seek information about A3SA's implementation requirements, as well as any other requirements imposed by third parties.³⁸ Are these requirements in line with those applied to, for example, video streaming services and, if not, how do they differ? Are there entities beyond A3SA that control access to Widevine licenses and if so who are those entities and what costs or other requirements do they impose? We also seek comment on the costs and benefits of this encryption program to all stakeholders.³⁹ Are there limitations on any of the potential capabilities of ATSC 3.0, such as mobile viewing or time shifted viewing, that are impacted by the need to use Widevine? Are steps being taken to permit interoperability with other platforms? ⁴⁰ Are broadcast signals capable of including multiple encryption methods without the use of significant additional capacity? Are there alternate products that could provide the same security or other services provided by Widevine and if so why should such products not be available as solutions in the context of ATSC 3.0? Does the protocol make it more complicated for consumers to access broadcast signals, or does it make it more challenging for viewers without an internet connection to access broadcast signals? To what extent are stakeholders prevented from raising issues about A3SA requirements due to non-disclosure agreements?

³⁸ We note that, to the extent some of this information is considered proprietary, it may be submitted to the Commission with a request for confidentiality.

³⁹ According to the A3SA Executive Summary document, A3SA's annual costs for content protection are $1,000.00 for small market stations, $1,500.00 for middle market stations, and $2,000.00 for large market stations. The document does not contain similar pricing information for manufacturers.

⁴⁰ Commenters indicate that use of Widevine DRM means that encrypted programming can only be viewed on devices that implement Google Widevine, which excludes the use of Apple or Microsoft devices that implement different encryption schemes, and may exclude other makers of such devices that do not implement Widevine.

38. Competition Concerns. We seek comment on the concerns raised in the record about the A3SA's “gatekeeping” role and its impact on competition in the marketplace, particularly with respect to 3.0 converter devices. Consumer Groups argue that “DRM permits licensees of public spectrum to act as gatekeepers not only over the content they broadcast, but over the devices and technologies the public may lawfully use to access that content.” What is the impact of this encryption regime on the marketplace? Are the costs and requirements of the encryption program deterring market entry? As the Commission has previously observed, ATSC 3.0 patent holders have committed to making their patents available on reasonable and non-discriminatory (RAND) terms, making it possible for any manufacturer to participate in the NextGen TV marketplace. Are decryption keys/capabilities and related licenses also being made available on RAND terms? Are there private commitments to provide decryption keys/capabilities and related licenses on RAND terms that have been made by A3SA or ATSC? ⁴¹ According to A3SA, different types of devices are treated differently. What is the differing treatment and the reason for this difference? We seek comment on the extent of this problem, including which 3.0 sets and devices are not capable of decryption and the relative cost of such sets and devices in comparison to the sets and devices that are capable of decryption.

⁴¹ A3SA states that its “uniform set of policies” apply “equally and objectively to all manufacturers of a particular device type.”

39. Definition of Broadcasting. Consumer groups and others allege that in practice “[t]he use of DRM, private device certification, and internet return-path dependencies renders ATSC 3.0 transmissions legally and functionally distinct from traditional broadcasting.” We seek comment about whether broadcasters' current encryption regime, as administered by A3SA, implicates the fundamental question of whether video programming streams distributed via 3.0 meet the definition of “broadcasting.” The Communications Act defines “broadcasting” as “the dissemination of radio communications intended to be received by the public, directly or by the intermediary of relay stations,” and a “broadcast station” as “a radio station equipped to engage in broadcasting.” The Commission has determined that this definition applies to services intended to be received by an indiscriminate public and has identified three non-exclusive indicia of a lack of such intent: (1) the service is not receivable on conventional television sets and requires a licensee or programmer-provided special antennae and/or signal converter so the signal can be received in the home; (2) the programming is encrypted in a way that “makes it unusable by the public” and that is not “enjoyable without the aid of decoders”; or (3) the provider and the viewer are engaged in a private contractual relationship. In the First Next Gen TV Report and Order, the Commission said it expected that “stations transmitting ATSC 3.0 signals will be engaged in `broadcasting' within the meaning of the Communications Act.” The Commission anticipated that the free, over-the-air ATSC 3.0 programming stream would be “intended to be received by all members of the public” and would “not require a private contractual agreement between the broadcaster and the viewers,” and that “ATSC 3.0 transmissions will be receivable eventually on conventional television sets.” The Commission in 2017 acknowledged NAB's prediction that “free Next Gen signals may be encrypted,” but emphasized that “[p]rogramming that is encrypted must not require special equipment supplied and programmed by the broadcaster to decode.” We seek comment on whether the current 3.0 encryption regime, as administered by A3SA and implemented by broadcasters, constitutes “broadcasting” within the meaning of the Communications Act.

40. Consumers' Ability to View Encrypted Signals. We seek comment on whether we should adopt rules requiring device manufacturers to ensure that encrypted 3.0 signals are able to be displayed on all TV sets and devices that conform to the 3.0 standard, particularly if we decide to adopt a 3.0 tuner requirement. Would the stated requirements of section 303(s)—that TV broadcast receivers be capable of “adequately receiving all television signals”—be met if we did not also require that receivers be capable of displaying encrypted signals? Alternatively, should we, at a minimum, require that devices that cannot display 3.0 encrypted signals disclose such limitation at the point of sale to consumers? We seek comment on how such a notice could be provided and whether there are other means to provide consumers the same information (e.g., by requiring broadcasters that encrypt their signal(s) to provide notice via their website or some other means). We note, for example, that NEXTGEN TV logo certified devices ⁴² are not necessarily able to display encrypted 3.0 signals, as the logo program is separate from the A3SA decryption program.⁴³ The FOTVI Report indicated that “[d]iscussions are underway to unify the testing programs.” We seek comment on the status of those discussions and the likelihood that they will result in a program that ensures consumers are able to view encrypted signals on NEXTGEN TV-certified equipment. What is the extent of this problem, including which 3.0 sets and devices carry the logo but are not currently capable of displaying encrypted signals and the reasons for this disconnect. We also seek comment on Consumer Groups' concern that “[i]f the Commission mandates a nationwide transition to ATSC 3.0 while permitting broadcasters to encrypt signals such that only A3SA-approved devices may receive them, it will effectively outsource the operability of broadcast reception to a private entity.”

⁴² According to the FOTVI Report, “NEXTGEN TV-certified television sets offer a streamlined way for consumers to continue to receive television service as broadcasters transition to ATSC 3.0. The Consumer Technology Association (CTA) established the NEXTGEN TV certification program to help consumers easily identify televisions and devices that are compatible with the ATSC 3.0 broadcast standard. Televisions that are certified under this program bear the NEXTGEN TV logo, indicating that they have been verified to receive, decode, and display ATSC 3.0 signals accurately.”

⁴³ The FOTVI Report states that “A3SA's verification test suite is currently separate from the NEXTGEN TV test suite, but most devices go through the processes simultaneously.”

41. Finally, we seek comment on whether broadcasters should be required to use a specific encryption method to provide regulatory certainty to equipment manufacturers and prevent viewer confusion as to what devices will work in order for them to receive broadcast signals. What is the potential impact on equipment manufacturers, and the consumers of televisions and reception equipment, if broadcaster encryption methods change over time or if different encryption methods are used by different stations? For example, if an encryption-capable receiver is built in 2025, what will happen to that receiver if broadcasters change their type of encryption in the future? Could this be addressed by a software update, and if so, how will non-internet-connected devices receive this update? Are there time or other limits on the ability of devices to obtain updates, or costs that must be borne by either manufacturers or consumers?

42. Fair Use and Encoding Rules. We seek comment on whether to adopt encoding rules to ensure consumers can continue to watch OTA TV 3.0 broadcasts with the features and functionalities that are available to viewers of OTA 1.0 programming. As discussed above, thousands of individual consumers have expressed concern that DRM encryption would place technological restrictions on consumer devices, such as blocking time-shifting and other features, and interfere with viewers' fair use ⁴⁴ of free OTA programming. The NAB Petition states it would not object to the Commission's adoption of encoding rules.⁴⁵ According to the FOTVI Report, A3SA has approved a set of “encoding rules” for encrypted 3.0 broadcasts “[t]o provide extra reassurance for viewers of ATSC 3.0 content,” though they apply only if the signal is simulcast in 1.0. These rules are:

⁴⁴ According to one commenter, “[f]air use is a constitutionally grounded doctrine that permits individuals to record, excerpt, transform, or repurpose content for criticism, education, commentary, research, and personal use. The contours of fair [use] have been affirmed repeatedly by the federal courts, most notably in Sony Corp. of America v. Universal City Studios, 464 U.S. 417 (1984), which held that individuals have the right to time-shift broadcast content for later viewing in the privacy of their homes.”

⁴⁵ NAB makes reference to outdated rules which have since been removed.

(1) Viewers must be allowed to decrypt and record these broadcasts even if they are using a less secure device that requires an internet connection;

(2) Viewers must be allowed to make an unlimited number of copies of these broadcasts;

(3) Such copies cannot have retention limits;

(4) Viewers must be allowed to use `trick play' features such as pause, rewind, fast-forward, and ad-skipping;

(5) Viewers must be allowed to use any authorized digital output (i.e., no selectable output control); and

(6) Viewers must be allowed to use analog outputs to connect to legacy TVs (i.e., no prohibition or required down-resolution).

We seek comment on A3SA's encoding rules for 3.0 broadcasts and applying them without regard to whether the signal is simulcast in 1.0. Would they ensure viewers retain the same features and functionalities that they enjoy today? We also seek specific comment on our authority to adopt encoding rules such as the ones established by A3SA.⁴⁶

⁴⁶ We note that, in 2013, the District of Columbia Circuit Court of Appeals (D.C. Circuit) vacated encoding rules the Commission had applied to the satellite television context.

43. Signal Signing. We seek comment on signal signing. ATSC has adopted a standard for signal signing in ATSC Standard A/331. According to A3SA, which is administering the signal signing program, “[s]ignal signing ensures the signal being received is from an FCC licensed broadcaster and that the information received has not been tampered with.” Although not required by our rules, the ATSC standard requires all broadcasters to use signal signing, even if they are not encrypting their signals. In light of A3SA's assertions, should a requirement for signal signing be included in the Commission's rules? Should signal signing be required for all broadcasters? We seek information on how broadcasters could implement signal and application signing. What are the consequent costs and requirements imposed on broadcasters and equipment manufacturers? ⁴⁷ LPTVBA has expressed concern that signal signing costs “could prove unaffordable for many small stations, potentially forcing many smaller TV broadcasters to go out of business.” We seek comment on the number and characterization of stations that may not be able to afford signing costs. In addition, LPTVBA further explains that “[a] certified ATSC 3.0 receiver cannot reliably display content from a non-certified ATSC 3.0 transmitter.” That is, devices that comply with A3SA's rules may not display unsigned 3.0 broadcast signals. We seek comment on these issues and the impact of signal signing on viewers ability to access to broadcast signals. To what extent are broadcasters using signal signing today?

⁴⁷ For example, according to the A3SA Executive Summary document, all broadcasters are required to obtain “digital certificates” from Eonti, a third-party company. A3SA states that “there are fees associated with the acquisition and use of Eonti's services/certificates.” These include annual costs of $998.00 for signal signing, $499 for application signing, and other optional services.

44. We also understand that at some future date set by A3SA (referred to as “high noon”), unsigned 3.0 broadcast signals will either no longer be displayed on receivers or will display an error message about the unsigned status of the signal. How will the timing of “high noon” be determined? Will devices allow for users to decide whether to view signals with expired or missing certificates? We seek comment on these points. Weigel claims that A3SA has made itself the only practical source for signing certificates. Weigel further expresses concern that A3SA asserts the authority to revoke a certificate for any failure to comply with the terms of the “agreements” it requires of broadcasters. What are the costs and impacts to the industry and consumers if A3SA enters into, or has entered into, contracts with major equipment manufacturers that require such manufacturers to use only A3SA approved signal signing? Should Commission rules address these costs, and if so, how? What type of oversight, if any, should the Commission have over such arrangements in order to ensure continued access to free OTA broadcast signals, and what would be the Commission's authority for such oversight? We seek comment on these points. How does this process compare with that used for the internet and streaming services? What is the reason for any differences?

45. In addition to the specific issues noted above, we seek comment generally on any other matters related to encryption of 3.0 signals, including but not limited to matters raised in the existing record.

3. MVPD Carriage

46. We seek comment on whether we should make any changes to our MVPD carriage rules in light of our proposal to eliminate the simulcasting requirement. We also seek comment on the changes to our carriage rules that will be needed after the 3.0 transition is complete. Under our current rules, a Next Gen TV station may assert mandatory carriage rights only with respect to its ATSC 1.0 signal but not its ATSC 3.0 signal.⁴⁸ Absent changes to our rules, a Next Gen TV station that is operating only in 3.0 (i.e., a station that is not simulcasting in 1.0) may not assert mandatory carriage rights,⁴⁹ but its signal may be carried pursuant to retransmission consent.⁵⁰

⁴⁸ A Next Gen TV station that airs its 1.0 simulcast signal on a host station may assert mandatory carriage rights only if it (1) qualified for, and has been exercising, mandatory carriage rights at its original location, and (2) continues to qualify for mandatory carriage at the host station's facilities, including (but not limited to) delivering a good quality 1.0 signal to the MVPD, or agreeing to be responsible for the costs of delivering such a signal to the MVPD. Under our existing must-carry rules, broadcasters are required to bear the costs of delivering a good quality signal to MVPDs. The rules, however, do not apply to the costs on MVPDs of receiving and redistributing the signal to their subscribers, and so MVPDs generally assume these costs. Such costs are generally viewed as the costs of doing business as MVPDs.

⁴⁹ The Commission further stated that a 3.0-only station could not assert carriage rights even if it arranged for an alternative method of delivery to MVPDs.

⁵⁰ The Commission has declined to adopt any restrictions on the voluntary carriage of 3.0 signals pursuant to retransmission consent. In 2017, the Commission found that it was “premature to address any issues that may arise with respect to the voluntary carriage of ATSC 3.0 signals before broadcasters begin transmitting in this new voluntary standard” and concluded that retransmission consent issues should be addressed at the outset through marketplace negotiations.

47. Under the Communications Act, full power television broadcast stations, and certain low power stations, are entitled to mandatory carriage of their signal (also known as “must-carry”) on any cable system located within their local market.⁵¹ Full power stations also have carriage rights on any DBS operator providing local service into the market. If a broadcast station asserts its must-carry rights, the MVPD may not accept or request any compensation from the broadcaster in exchange for carriage of its signal. Alternatively, commercial broadcast stations with carriage rights may elect “retransmission consent.” ⁵² The terms of retransmission consent frequently include, among other negotiated terms, compensation from the MVPD to the broadcaster in exchange for the right to carry the station's signal. If the broadcaster and MVPD cannot reach a retransmission consent agreement, however, the MVPD is prohibited from carrying the broadcaster's signal. Thus, commercial broadcasters are presented with a carriage choice—elect mandatory carriage and forego compensation while assuring carriage, or elect retransmission consent and forego assured carriage while retaining the possibility of compensation for carriage. Noncommercial educational stations (NCEs) are entitled to must-carry, but not to elect retransmission consent.⁵³

⁵¹ A station's local market for this purpose is its “designated market area,” or DMA, as defined by The Nielsen Company.

⁵² The Act requires broadcasters and MVPDs to negotiate for retransmission consent in good faith.

⁵³ While an NCE station does not have retransmission consent rights (and thus cannot withhold its signal from being carried by an MVPD), an NCE station is free to negotiate with MVPDs for voluntary carriage.

a. Mandatory Carriage of Next Gen TV Stations

48. Mandatory Carriage. We seek comment on whether we should allow stations to assert mandatory carriage rights for their 3.0 signals (instead of their 1.0 signals), in light of our proposals to eliminate the simulcasting requirement and the substantially similar rule for voluntary simulcasting. When adopting the Next Gen TV carriage rules in 2017, the Commission found that “mandating any MVPD carriage of the 3.0 signal at [that] time would be antithetical to a voluntary and market-driven 3.0 deployment for all stakeholders and would not advance the interests under the must carry regime.” The Commission noted that “until there is widespread adoption of 3.0 technology by OTA viewers, mandatory carriage of 3.0 signals would not serve the goals of promoting OTA broadcasting.” ⁵⁴ The Commission also observed that allowing a station to demand mandatory carriage of its 3.0 signal would impose significant costs on MVPDs and found that “it would not be reasonable to interpret the Act in a manner that would compel MVPDs to incur these added costs.” Does this reasoning still apply? How, if at all, has the market changed with respect to 3.0 viewership and MVPD carriage of 3.0 signals? What would be the likely consequences of allowing mandatory carriage rights for 3.0 signals at this time? If the Commission took no action at this time, meaning 3.0 signals continue to have no carriage rights, would this deter a significant number of stations from completing their transition at this stage? We note that NCTA and ATVA contend that affording mandatory carriage to 3.0 signals would be unconstitutional. We seek comment on these points.

⁵⁴ In Turner II, a majority of the Supreme Court recognized that the must-carry provisions serve the important and interrelated governmental interests of: (1) “preserving the benefits of free, over-the-air broadcast television,' ” and (2) promoting “ `the widespread dissemination of information from a multiplicity of sources.”

49. 3.0-Only Stations Providing a 1.0 Direct Feed. We also seek specific comment on whether we should, as an interim approach, afford mandatory carriage rights to a 3.0-only station only if it agrees to provide a 1.0 version of its signal feed to MVPDs through a direct connection. We recognize that the tentative conclusions in Section III.A, if adopted, would likely result in some stations choosing to flash-cut to 3.0-only service or cease 1.0 simulcasting, while others in a market continue to broadcast in 1.0. Thus, if we do not generally afford mandatory carriage rights for 3.0 signals, should we nevertheless allow a 3.0-only station to assert must-carry by arranging for the direct delivery of its 1.0 feed to an MVPD? ⁵⁵ The MVPD would thus not be required to engage in its own down-conversion or update its equipment to receive and redistribute the 3.0 signal itself, but would instead carry the 1.0 version provided by the broadcaster. What are the costs associated with such delivery? Are all MVPDs capable of accepting delivery of a broadcast signal through a direct connection? ⁵⁶ Would the costs of such alternate delivery of the signal still deter must-carry stations from flash-cutting or terminating 1.0 simulcasting? We seek comment on these questions.

⁵⁵ For example, we could permit such delivery, provided the station delivers its stream to MVPDs through a direct fiber-based IP connection in accordance with SCTE 277 2024.

⁵⁶ To the extent it is not technically feasible for certain smaller MVPDs to accept alternate delivery, the Commission could consider a request for exemption.

b. Technical Challenges and Costs

50. We seek comment on the technical challenges that MVPDs face in carrying 3.0 signals, either by down-converting them or passing them through directly to subscribers. The FOTVI Report observed that “individual MVPDs may differ significantly in how digital television is [currently] carried on their systems,” and therefore “technical challenges and limitations may vary across the MVPD ecosystem.” Accordingly, we seek comment from different types of MVPDs, including smaller and rural MVPD systems, about the different challenges they may face. NCTA states that “mandatory carriage of ATSC 3.0 signals will present formidable technical challenges for MVPDs. . . .” and that rule changes are needed “before any stations are required to transition to ATSC 3.0 or any MVPD is required to carry such signals. Below, we consider many of the issues raised by MVPDs in this regard and seek comment on these and all related matters.

51. Technical Standards Regarding Carriage of 3.0 Signals. We seek comment on the relevant technical standards and recommended practices regarding MVPD carriage of 3.0 signals. Should the Commission require compliance with any of these standards or practices? What technical issues remain unresolved in the existing standards? What is the status of ongoing standards work related to these open technical issues and what is the timetable for completing this work? ATSC has issued a recommended practice (RP), ATSC A/370: “Conversion of ATSC 3.0 Services for Redistribution,” which “provides recommended practices for the conversion of ATSC 3.0 services for Redistribution into ATSC 1.0 and other legacy services.” ⁵⁷ This RP indicates that the conversion will be performed at the broadcaster's facility in some situations, and at the MVPD's facility in others. Is there an adequate supply of commercially available equipment that can perform these conversions? ⁵⁸ The ATSC A/370 RP indicates that “[a] TV station may provide an ATSC 1.0 signal via direct feed even when its ATSC 1.0 over-the-air service has been discontinued.” Is this something that all stations will be able to do? If not, why not?

⁵⁷ We note, however, that DIRECTV refers to this document as a “candidate” standard, and we seek clarification on this point.

⁵⁸ For example, DIRECTV indicates that there are ATSC 3.0 receivers compatible with DIRECTV's system, but that such receivers are in “very limited supply” and “cost roughly $8,000 per feed (i.e., primary and multicast feeds).”

52. We also understand that ATSC is still working on recommended practices for MVPDs to receive 3.0 signals for direct redistribution. What is the status of this work specifically and of the coordination efforts between Next Gen TV broadcasters and MVPDs more generally? ⁵⁹ Should the Commission wait to adopt rules in this area until ATSC's work on recommended practices for MVPDs to receive 3.0 signals for direct redistribution is concluded and publicly available? How do broadcasters and MVPDs anticipate handling voluntary carriage of 3.0 signals, if at all, in the absence of such recommended practices? Is there an adequate supply of commercially available head-end and set-top equipment that would allow MVPDs to receive 3.0 signals OTA and pass them directly through to subscribers rather than down-converting them? NCTA states that other standards work is also needed. We seek comment on these points.

⁵⁹ We understand that ATSC has tasked a Working Group, called the “TG3/S37 Specialist Group,” with developing standards for MVPD distribution of ATSC 3.0 signals, including over fiber. We note that DIRECTV has indicated that “there is no longer any MVPD representation in TG3” and attributes this to “what MVPDs view as the domineering and uncollaborative behavior of the broadcast representatives in the Working Group.”

53. Good Quality Signal. We seek comment on how to define a “good quality signal” for purposes of ATSC 3.0 carriage. The Commission's 1.0 rules provide that a station asserting must-carry rights must deliver a good quality signal—defined for ATSC 1.0 carriage as a signal strength level of −61 dBm—to the principal headend of a cable system or the local receive facility (LRF) of a satellite carrier. Broadcasters are required to bear the costs of delivering a good quality signal to MVPDs. The 1.0 rules, however, do not apply to the costs on MVPDs of receiving and redistributing the signal to their subscribers, and so MVPDs generally assume these costs.

54. NAB's Petition explains that the fixed signal level for determining whether a signal is adequate to be eligible for must-carry was derived using certain planning factors for DTV reception, which included, among other things, a carrier-to-noise (C/N) ratio of 15.2 decibels (dB). In contrast, ATSC 3.0 signals can be provided using a variety of modulation and coding (modcod) combinations, which can require a C/N ratio that is either higher or lower than required in ATSC 1.0. NAB states that “while most broadcasters are currently providing their primary video streams using a modcod that meets or exceeds the robustness of an ATSC 1.0 signal, the Commission may want to modify the definition of good quality signal to require a higher signal level when necessitated by the choice of modcod.” We seek comment on whether it is necessary to take the choice of modcod into account for purposes of defining a good quality signal and, if so, how to do so. We note that while the Next Gen TV rules do not expressly address good quality signal, they do require stations broadcasting an ATSC 3.0 signal (using the Next Gen TV transmission standard in § 73.682(f)) to “transmit at least one free over the air video programming stream on that signal that requires at most the signal threshold of a comparable received DTV signal.” Thus, by rule, the 3.0 primary stream must be at least as robust as the 1.0 primary stream. To what extent does this address the concern described by NAB? We seek comment on these points.

55. NCTA and ATVA contend that the current good quality signal definition (−61dBm) “is insufficient to enable redistribution of the primary ATSC 3.0 video channel by MVPDs.” They argue that determining whether a 3.0 signal is of good quality must entail consideration of a wide range of additional factors.⁶⁰ We seek comment on these concerns and whether they relate to the purpose of the rule, which is to ensure that the station provides a strong/robust enough signal to reach the location of the MVPD's headend or LRF. We note that the existing rule does not relate to reception and redistribution of the signal, both of which are currently the MVPD's responsibility. NCTA also argues that the good quality signal rules “should require that broadcasters deliver their ATSC 3.0 feed to MVPDs through a direct fiber-based IP connection in accordance with SCTE 277 2024.” Direct delivery, however, such as via fiber, is only required under our current rules if a station cannot deliver a good quality signal to the MVPD over the air. We seek comment on these proposals and issues.

⁶⁰ NCTA further states that “the good quality signal rules should also require broadcasters to provide their primary over-the-air signal in HD.” We note that the good quality signal rule relates to signal strength, not picture quality, and therefore we do not consider this proposal in this context.

56. Material Degradation. We seek comment on what constitutes “material degradation” for purposes of 3.0 carriage. The Communications Act requires that cable operators carry broadcast signals “without material degradation.” The Act also directs the Commission to “adopt carriage standards to ensure that, to the extent technically feasible, the quality of signal processing and carriage provided by a cable system for the carriage of local commercial television stations will be no less than that provided by the system for carriage of any other type of signal.” In the context of the carriage of digital signals, the Commission has interpreted these requirements: (i) to prohibit cable operators from discriminating in their carriage between broadcast and non-broadcast signals; and (ii) to require cable operators to carry HD broadcast signals to their subscribers in HD.⁶¹ NCTA states that ATSC 3.0 features “may exceed the capabilities and capacity of MVPDs' digital video systems,” and ATVA contends that, at this time, many carriers would likely be unable to pass through the improved broadcast features (such as higher-quality video and audio) to their subscribers.⁶² For example, NCTA states that in some “instances, the transcoding process will necessarily down-convert [3.0] audio and video to encoding protocols and formats supported by the set-top [boxes].” NCTA argues that such down-conversion should not be considered “material degradation” under the statute. We seek comment on this issue.

⁶¹ Small cable systems that are not offering any programming in HD are exempt from this HD carriage requirement.

⁶² ATVA explains that “MVPD systems do not simply pass through directly the signal received from broadcasters—nor would they do so with ATSC 3.0. With respect to video quality, for example, many MVPD set-top boxes do not support 4K resolution and other ATSC 3.0 formats, such as High Efficiency Video Coding (`HEVC'), Scalable High Efficiency Video Coding (`SHVC'), High-Dynamic Range (`HDR'), and Wide Color Gamut (`WCG'). MVPDs do not support SHVC, and only some MVPD set-top boxes support 4K, HDR, or WCG. To the extent that a broadcaster used an ATSC 3.0 signal to deliver video in those formats, MVPDs would need to down convert the signal to an encoding and resolution format supported by the MVPDs' various set-top boxes. Once the signal was down-converted, however, consumers viewing broadcast television channels over their MVPD subscriptions would not receive broadcast quality improvements that broadcasters may offer using ATSC 3.0 signals.”

57. Program-Related Material. We seek comment on what constitutes “program-related material” for purposes of 3.0 carriage. The Act requires a cable operator to carry in its entirety, on the cable system of that operator, the primary video, accompanying audio, and line 21 closed caption transmission of each of the local commercial television stations carried on the cable system and, to the extent technically feasible, program-related material carried in the vertical blanking interval or on subcarriers.⁶³ The Commission's rules for satellite carriage include the same program-related requirements as apply to cable. The Commission has found that the factors enumerated in WGN ⁶⁴ provide useful guidance for what constitutes program-related material.⁶⁵ Some examples of program-related material include (but are not limited to) closed captioning, video description, parental control information (“V-chip”), and Nielsen ratings information (“SID codes”). With regard to the “technical feasibility” of the carriage of program-related material in the VBI or on subcarriers, the Commission has stated that such carriage would be considered “technically feasible” if “only nominal costs, additions or changes of equipment are necessary.” NCTA contends that any must-carry obligations for 3.0 broadcasts should be “limited to the primary video and audio stream and material that is intimately connected to the primary video service.” NCTA asserts that “[n]ew data transport mechanisms enabled by ATSC 3.0 standards—including mechanisms within the audio and video streams and watermarking—should not be considered program-related material, consistent with the Commission's findings for multicast streams.” ⁶⁶ NCTA further asserts that “interactive elements embedded within the 3.0 signal, including interactive ads and other features that require a return path, are not program-related.” Alternatively, NCTA states that “it should not be considered `technically feasible' to carry such material.” Broadcasters, in the FOTVI Report, have argued that watermarks and other advanced features should be considered program related and should generally be passed through to subscribers. We seek comment on this issue, and on whether there are specific 3.0 features that should or should not be considered program-related.

⁶³ Retransmission of other material in the vertical blanking interval or other nonprogram-related material (including teletext and other subscription and advertiser-supported information services) is at the discretion of the cable operator. Where appropriate and feasible, operators may delete signal enhancements, such as ghost-canceling, from the broadcast signal and employ such enhancements at the system headend or headends. Section 615(g)(1) provides the same requirements for NCE stations, except that such operators also must carry program-related material contained in the VBI or on subcarriers “that may be necessary for receipt of programming by handicapped persons or for educational or language purposes.”

⁶⁴ WGN Continental Broadcasting, Co. v. United Video Inc., 693 F.2d 622 (7th Cir. 1982). The WGN case addressed the extent to which the copyright on a television program also included program material in the VBI of the signal and set out three factors for making a copyright determination. First, the broadcaster must intend for the information in the VBI to be seen by the same viewers who are watching the video signal. Second, the VBI information must be available during the same interval of time as the video signal. Third, the VBI information must be an integral part of the program. The court in WGN held that if the information in the VBI is intended to be seen by the viewers who are watching the video signal, during the same interval of time as the video signal, and as an integral part of the program on the video signal, then the VBI and the video signal are one copyrighted expression and must both be carried if one is to be carried.

⁶⁵ Closed captioning information and television ratings data are some examples of the material carried in the vertical blanking interval. The Commission subsequently clarified that the factors set forth in WGN do not necessarily form the exclusive basis for determining program-relatedness. For example, on reconsideration, the Commission found that Source Identification Codes (“SID codes”) are program-related material under the statute, even though they may not precisely meet each factor in WGN, “because they constitute information intrinsically related to the particular program received by the viewer.”

⁶⁶ NCTA argues that MVPDs should be allowed to remove watermarks from 3.0 streams. Broadcasters “disagree that the potential for consumer confusion should result in rules that permit MVPDs to strip watermarks out of broadcast signals.”

58. MVPD Costs. We seek comment about the financial costs associated with MVPD carriage of 3.0 signals.⁶⁷ ATSC 3.0 is not backwards compatible with existing MVPD digital video systems. ATVA and NCTA have indicated that MVPDs would need to purchase and install new transcoders, receivers, demultiplexers, and demodulators in order to receive and redistribute 3.0 signals. MVPDs also would have to incur other expenses based on whether they receive ATSC 3.0 signals over the air or via fiber. For example, MVPDs may need to conduct new engineering studies and/or upgrade tower equipment to receive OTA ATSC 3.0 signals. We observe that MVPDs could incur costs to enable 3.0 carriage and later lose access to the 3.0 signal if the broadcaster chooses to switch back to 1.0. We seek comment on the costs of such changes and possible protections for MVPDs that invest in 3.0 technology. We seek comment on these and related questions of cost. We seek comment on the amount of such costs and who would/should bear such costs. We seek comment on the impact of any costs on consumers. We also seek comment on the benefits of ATSC 3.0 service to MVPDs, particularly small MVPDs and MVPD consumers, and on balancing the costs to such entities with any benefits, including those to 3.0 OTA broadcasters and viewers.

⁶⁷ We request that commenters be as specific and detailed as possible, and indicate the basis for any cost estimates. Cost estimates for each signal required to be carried would be instructive.

59. In addition to the specific issues noted above, we seek comment generally on any other matters related to MVPD carriage of 3.0 signals, including but not limited to matters raised in the existing record such as MVPD capacity constraints.

C. Other Issues

60. Finally, we seek comment on a number of other outstanding ATSC 3.0 issues. As with the matters discussed above, we have previously received comments on many of these issues in the context of NAB's proposal for a mandatory transition. Now, however, we seek to consider these issues in light of our proposal to eliminate the simulcasting requirement and our goal to eliminate regulatory barriers to the adoption of ATSC 3.0 technology and services. We therefore invite comment on the issues below.

61. Sunset of 1.0 Service. We seek comment on whether there should be an eventual sunset of 1.0 broadcasting and if so whether the sunset of 1.0 should be tied to a date certain or specific market conditions. If the former, we seek comment on whether that date should be phased for different markets and stations, similar to the approach proposed in the Petition, or a single nationwide date, and what those date(s) should be. If the latter, what conditions should apply? For example, should the sunset be tied to broadcaster deployment, the availability of low-cost converter devices, consumer uptake, or some other factor or combination of factors, including factors not related to market conditions?

62. A/322 Compliance Sunset. We seek comment on whether and how to address the scheduled July 17, 2027, sunset of the requirement that Next Gen TV broadcasters' primary video programming stream comply with the ATSC A/322 standard. In 2023, the Commission found that “the A/322 requirement remains essential at this time for protecting both innovators and investors in the 3.0 space, allowing stakeholders to develop and purchase equipment with confidence.” We note that, at that time, both equipment manufacturers and broadcasters agreed that the rule should be retained. What would be the impact on consumers, television receiver manufacturers, and MVPDs if this requirement were to sunset? If we do not require compliance with the ATSC A/322 standard, how can we ensure that 3.0 TV sets and other 3.0 TV equipment will be able to receive all 3.0 broadcast signals? Have marketplace developments since 2023 reduced or eliminated the need for mandatory compliance with the ATSC A/322 standard? What marketplace conditions are relevant to this question? Should the sunset date be extended or eliminated? If the date should be extended what sunset date should apply? Should it be a date certain or tied to specific market condition? If the latter, what conditions should apply?

63. Updating Standards Incorporated in Rules. We seek comment on whether to update our rules to reflect the most recent versions of the A/321 and A/322 standards, as proposed by NAB. Based on the ATSC website, it appears the most recent versions of A/321 and A/322 were issued by ATSC in July 2025. What, if any, substantive changes have been made to these standards since we mandated their use in 2017? Are any subsequent versions and substantive updates planned, and if so, what is the timeframe? We seek comment on these points.

64. Options to Offset Consumer Costs. As the Commission has previously stated, broadcasters are “obligated to operate their stations to serve the public interest—specifically to air programming responsive to the needs and issues of the people in their communities of license.” Because the 3.0 standard is not backwards compatible, when a station converts from 1.0 to 3.0 viewers without 3.0-capable equipment will not be able to receive the station's 3.0 signal. During the analog to digital television transition, there was a whole of government effort to ensure that consumers could continue to receive OTA broadcast service on their existing televisions. We seek comment on the availability of low-cost converter devices and on options for potential funding sources to offset costs for consumers. Is congressional action needed to establish public funding, such as when Congress established the DTV coupon program? What options are there or should there be to ensure that consumers receive the necessary information about the need for 3.0 enabled devices in order to receive 3.0 signals. Beyond consumer information efforts, what, if any consumer support for a 3.0 transition is available from broadcast industry stakeholders? What are other potential sources of funding for consumer costs to ensure consumers can afford new 3.0 enabled devices? Do other stakeholders, such as small MVPDs or broadcasters, need access to the funds as has been made in other transitions, and if so for what purposes?

65. Test Market(s). We seek comment on whether the Commission should actively encourage or require coordinated “test markets” for technical testing and to confirm viewer and MVPD readiness. We seek comment on which market(s) are the best options for such tests and why. How should these tests be implemented, what information should be gathered, and what should be the timeline for any test(s)?

66. Accessibility. We seek comment on how, specifically, the industry will ensure that current video accessibility requirements continue to be met in the context of ATSC 3.0 service. In the First Next Gen TV Report and Order, the Commission emphasized that “broadcasters that choose to deploy ATSC 3.0 are expected to comply fully with all relevant Part 79 requirements.” Accessibility Groups, however, have urged the Commission not to “just assume that current accessibility rules `need not be modified' in the transition to NextGen TV.” They contend, “[s]imply assuming that existing ATSC 1.0 rules will carry over without issue ignores the real-world challenges faced by consumers who rely on closed captioning and other access features.” We seek comment on what, if any, specific changes to existing rules would be needed to clarify that current video accessibility requirements apply with respect to 3.0. Additionally, we seek comment on whether we should require the provision of advanced accessibility features (e.g., multiple audio streams, customizable closed captioning placement, speed, font colors, styles, and weights, and sign language integration) by 3.0 broadcasters and device manufacturers, whether MVPDs should be required to pass through such features, and on the legal authority that would support such requirements. What are the costs and benefits associated with such requirements?

67. Emergency Alerting. In the First Next Gen TV Report and Order, the Commission required Next Gen TV broadcasters to comply with all of its broadcast rules and specifically required compliance with the Emergency Alert System (EAS) rules. Nothing in this FNPRM should be interpreted as reopening that issue. We seek comment on any actions or information that emergency alerting stakeholders should be aware of to ensure EAS messages continue to be made available to all broadcast audiences, both during and after the transition. Could our proposal to allow broadcasters to choose how to divide their programing between 1.0 and 3.0 signals threaten to deprive viewers of access to EAS? Could implementation of the 3.0 broadcast security features, such as encryption and signal signing, diminish the availability of emergency alerts by introducing a risk of blocking valid alerts, including EAS alerts? If so, should there be differences in how EAS and advanced emergency alert signaling are treated, including by MVPDs? What obstacles exist to the widespread adoption of advancing emergency alerting functionality, and what steps can the Commission take to address those obstacles?

68. Fundamental Use of Broadcast Spectrum. We seek comment on whether to require Next Gen TV broadcasters to dedicate a specific portion of their licensed spectrum to broadcasting free over-the-air video programming after they transition to 3.0. The Commission has said that it expects the “fundamental use” of television broadcast spectrum to continue to be the provision of free, over-the-air television service, but has not yet addressed the question of how much of its capacity a Next Gen TV station must ultimately devote to free, OTA television service after the ATSC 3.0 transition. Under the current rules, 1.0 broadcasters are required only to “transmit at least one free over the air video program signal at no direct charge to viewers.” ⁶⁸ Several commenters, however, observed that ATSC 3.0 has much greater spectral capacity and expressed concerns that broadcasters might derogate their free OTA TV service in favor of datacasting and other non-broadcast services. Weigel urged the Commission to ensure that broadcasters use their increased capacity to improve the free OTA TV service and recommended a “[g]uardrail to preserve minimum capacity devoted to broadcasting that does not require the internet.” ATVA stated that allowing “broadcast spectrum being used overwhelmingly for non-broadcast purposes also raises significant issues related to statutory authority.” In response, broadcasters have offered assurances that any datacasting services provided would be to support and improve its free OTA service and not to supplant it. We seek comment on these points.

⁶⁸ The rule also states that the TV service provided pursuant to the rule “must have a resolution of at least 480i (vertical resolution of 480 lines, interlaced).” This rule is also known as the derogation of service standard, as the rule was adopted to implement the Communications Act's directive for the Commission to “limit the broadcasting of ancillary or supplementary services on designated frequencies so as to avoid derogation of any advanced television services, including high definition television broadcasts, that the Commission may require using such frequencies.” In addition to full power, these standards and rules are also applicable to Class A and LPTV stations.

69. Privacy. We seek comment on whether privacy rules are needed to address broadcaster collection of viewer data. The FOTVI Report “examined whether ATSC 3.0's new features and capabilities warrant new or different privacy regulations to protect viewers' information.” According to the FOTVI Report, “[p]articipants agreed that there are no new privacy concerns for viewers who receive ATSC 3.0 exclusively over-the-air without an internet connection, as user data cannot be collected without a return path.” However, it stated that “viewers with an internet connection can take advantage of ATSC 3.0's interactive and personalized services, which may require the collection of user data to customize content and enhance the viewing experience.” We seek specific comment on whether broadcasters' collection of viewer data will include the collection of personally identifiable information (PII). We note that the Communications Act places certain requirements on cable and satellite operators with respect to the collection and disclosure of subscribers' PII. Should broadcasters be subject to MVPD-like privacy rules, or other privacy requirements? Would compliance with privacy requirements be part of a broadcasters' statutory obligation to serve the public interest, convenience and necessity? Does the Commission have other statutory authority to impose privacy requirements on broadcasters under these circumstances? Would privacy requirements be necessary if broadcasters develop MVPD-like relationships with viewers? Consumer Groups have urged the Commission “to adopt a binding privacy framework tailored specifically to ATSC 3.0's hybrid capabilities.” We seek comment on this proposal and how any framework should be tailored.

70. Notice Requirements. As discussed above, individual stations are currently required to provide 30 days of notices to viewers and 90 days' notice to MVPDs before “relocating” their 1.0 service, and we have sought comment on explicitly revising those rules to apply to a station that chooses to flash-cut to 3.0 or terminate its current 1.0 simulcast.⁶⁹ We also seek comment on whether the Commission should adopt additional pre-transition notice requirements on broadcasters or other industry participants, similar to those adopted leading up to the DTV transition, and the Commission's authority to adopt such requirements.⁷⁰

⁶⁹ We also propose to make clean up edits to the MVPD notice requirements to reflect that the post-incentive auction transition period has passed and as such the requirement to provide 120 day notice to MVPDs no longer applies. We seek comment on this update to the rules.

⁷⁰ In its DTV Consumer Education Initiative proceeding, the Commission sought to ensure widespread consumer understanding of the benefits and mechanics of the transition by promoting a coordinated, national DTV consumer education campaign. The following requirements were among those adopted: (1) All full-power broadcasters must regularly conduct on-air education, including Public Service Announcements, to explain the various important issues of the transition and explain how viewers can find more information; (2) Broadcast stations must electronically report their consumer education efforts to the Commission on a quarterly basis via Form 388, and these reports must be placed in the broadcaster's public file and, if a broadcaster has a public website, on that website; (3) All MVPDs must provide notice of the DTV transition to their subscribers in monthly bills or billing notices; (4) Manufacturers of television receivers and certain related devices must include information with those devices explaining what effect, if any, the DTV transition will have on their use; (5) DTV.gov Transition Partners must report their consumer education efforts, as a condition of continuing Partner status; (6) Eligible telecommunications carriers (ETCs) must provide DTV transition information to Lifeline and Link-Up customers; (7) Winning bidders in the 700 MHz spectrum auctions (Auctions 73 and 76) must detail, on a quarterly basis, what, if any, DTV transition consumer education efforts they are conducting.

71. RAND Licensing. We continue to monitor the marketplace for ATSC 3.0 Standard Essential Patents (SEPs) and the ability of third parties to develop products that rely upon them. We invite comment on the state of the market.⁷¹

⁷¹ The Commission last sought comment on patent licensing in the Fourth FNPRM in this docket.

72. Next Gen TV Public Interest Considerations. As the Commission recognized in the First Next Gen Report and Order, “Next Gen TV stations will be public trustees with a responsibility to serve the `public interest, convenience, and necessity.' ” In addition to the comments requested above about how the public interest bears on the resolution of specific issues, we also seek comment more generally on how the public interest informs the overall regulatory approach the Commission takes to the continued advancement of ATSC 3.0 in this proceeding. For example, as discussed above, Next Gen TV promises to revitalize the nation's free, local, OTA television service, which serves as a vital source of local news and information for many Americans, by enabling significant improvements in picture quality, audio clarity, interactive features, hyper-local content, and public safety and accessibility capabilities. How can we ensure that our overall approach to ATSC 3.0 best advances those public interests? Are there specific public interest considerations reflected in the record and FCC's Next Gen TV analyses to date that should be accounted for in our overall approach? Are there additional public interest considerations that should inform our overall approach?

73. Additional Matters. We seek comment on clarifying edits to sections 73.3801(i)(1), 73.6029(i)(1), and 74.782(j)(i) to add the terms “simulcast” and “non-simulcast” in order to make clear, in light of proposed changes to our rules and as the Commission determined in the Third Report and Order, that licensed multicast streams aired in a 1.0 format may be either simulcast (i.e., aired in both a 1.0 and 3.0 format) or non-simulcast (i.e., aired in only a 1.0 format). We also seek comment on non-substantive edits to sections 73.6029(c)(3) and 74.782(d) to add missing terminology and sections 74.782(g), (i), and (j) to update inaccurate cross references. Finally, in addition to the specific issues discussed in this FNPRM, we seek comment generally on any other matters related to the ATSC 3.0 transition, including but not limited to matters raised in the existing record.

IV. Procedural Matters

74. Ex Parte Rules—Permit-But-Disclose. This proceeding shall be treated as a “permit-but-disclose” proceeding in accordance with the Commission's ex parte rules.⁷² Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b), 47 CFR 1.1206(b). In proceedings governed by rule 1.49(f), 47 CFR 1.49(f), or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

⁷² 47 CFR 1.1200 et seq.

V. Initial Regulatory Flexibility Analysis

75. As required by the Regulatory Flexibility Act (RFA) of 1980, as amended, Public Law 104-121, the Commission has prepared this Initial Regulatory Flexibility Analysis (IRFA) of the possible significant economic impact on a substantial number of small entities by the policies proposed in this Fifth Further Notice of Proposed Rulemaking (FNPRM). Written public comments are requested on this IRFA. Comments must be identified as responses to the IRFA and must be filed by the deadlines for comments on the FNPRM provided on the first page of the FNPRM. The Commission will send a copy of this entire FNPRM, including this IRFA, to the Chief Counsel for Advocacy of the Small Business Administration (SBA). In addition, the FNPRM and the IRFA (or summaries thereof) will be published in the Federal Register.

A. Need for, and Objectives of, the Proposed Rules

76. In 2017, the Commission authorized television broadcasters to use the Next Gen TV transmission standard, also called “ATSC 3.0” or “3.0,” on a voluntary, market-driven basis. The Commission required that any broadcaster voluntarily deploying ATSC 3.0 service must also, with very limited exceptions, continue to air at least their primary stream using the current-generation TV transmission standard, also called “ATSC 1.0” or “1.0.” This is called the local simulcasting requirement. The Commission, however, intended that the local simulcasting requirement be temporary.

77. In the FNPRM, the Commission tentatively concludes that it should eliminate the local simulcasting requirement for stations that transition to 3.0. The Commission also tentatively concludes that it should continue to permit simulcasting on a voluntary basis. That is, Next Gen TV broadcast stations can choose if they want to fully transition to 3.0 or if they want to begin, or continue, to simulcast in 1.0. The Commission also proposes to immediately eliminate the “substantially similar” rule and the 95 percent population coverage threshold for expedited processing. The Commission also proposes to permit simulcasting stations to use MPEG-4 in certain situations. Lastly, the Commission seeks comment on a variety of issues related to the ATSC 3.0 transition, including an ATSC 3.0 tuner requirement, encryption of broadcast signals, multichannel video programming distributor (MVPD) carriage of 3.0 signals, and other issues.

B. Legal Basis

78. The proposed action is authorized pursuant to the authority found in sections 1, 4, 7, 301, 303, 307, 308, 309, 316, 319, 325(b), 336, 338, 399b, 403, 534, and 535 of the Communications Act of 1934, as amended, 47 U.S.C. 151, 154, 157, 301, 303, 307, 308, 309, 316, 319, 325(b), 336, 338, 399b, 403, 534, and 535.

C. Description and Estimate of the Number of Small Entities to Which the Proposed Rules Will Apply

79. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act (SBA). A “small business concern” is one which: (1) is independently owned and operated; (2) is not dominant in its field of operation; and (3) satisfies any additional criteria established by the SBA. The SBA establishes small business size standards that agencies are required to use when promulgating regulations relating to small businesses; agencies may establish alternative size standards for use in such programs, but must consult and obtain approval from SBA before doing so.

80. Our actions, over time, may affect small entities that are not easily categorized at present. We therefore describe three broad groups of small entities that could be directly affected by our actions. In general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

81. The rules proposed in the FNPRM will apply to small entities in the industries identified in the chart below by their six-digit North American Industry Classification System (NAICS) ⁷³ codes and corresponding SBA size standard.⁷⁴ Based on currently available U.S. Census data regarding the estimated number of small firms in each identified industry, we conclude that the proposed rules will impact a substantial number of small entities. Where available, we also provide additional information regarding the number of potentially affected entities in the industries identified below.

⁷³ The North American Industry Classification System (NAICS) is the standard used by Federal statistical agencies in classifying business establishments for the purpose of collecting, analyzing, and publishing statistical data related to the U.S. business economy. See www.census.gov/NAICS for further details regarding the NAICS codes identified in this chart.

⁷⁴ The size standards in this chart are set forth in 13 CFR 121.201, by six digit NAICS code.

⁷⁵ Affected Entities in this industry include Broadband Radio Service and Educational Broadband Service and Fixed Microwave Services.

⁷⁶ Affected Entities in this industry include Competitive Access Providers, Competitive Local Exchange Carriers (CLECs), Direct Broadcast Satellite (DBS), Home Satellite Dish (HSD) Service, Incumbent Local Exchange Carriers (Incumbent LECs), Open Video Systems, Satellite Master Antenna Television (SMATV) Systems aka Private Cable Operators (PCOs), Cable Companies and Systems (Rate Regulation), and Cable System Operators (Telecom Act Standard).

Table 1—2022 U.S. Census Bureau Data by NAICS Code
Regulated Industry (Footnotes specify potentially affected entities within a regulated industry where applicable) | NAICS code | SBA size standard | Total firms | Total small firms | % Small firms
Audio and Video Equipment Manufacturing | 334310 | 750 employees | 506 | 492 | 97.23
Wireless Telecommunications Carriers (except Satellite) ⁷⁵ | 517112 | 1,500 employees | 1,184 | 1,081 | 91.30%
Television Broadcasting Stations | 516120 | $47 million | 744 | 657 | 88.31%
Wired Telecommunications Carriers ⁷⁶ | 517111 | 1,500 employees | 3,403 | 3,027 | 88.95
Electronics and Appliance Retailers | 449210 | $40 million | 17,421 | 14,818 | 85.06
Radio and Television Broadcasting and Wireless Communications Equipment Manufacturing | 334220 | 1,250 employees | 155 | 136 | 87.74

Table 2—Telecommunications Service Provider Data
2024 Universal service monitoring report telecommunications service provider data (Data as of December 2023): Affected entity | SBA size standard (1,500 employees): Total # FCC form 499A filers | SBA size standard (1,500 employees): Small firms | SBA size standard (1,500 employees): % Small entities
Local Exchange Carriers (LECs) ⁷⁷ | 4,904 | 4,493 | 91.62
Wired Telecommunications Carriers | 4,682 | 4,276 | 91.33
Wireless Telecommunications Carriers (except Satellite) ⁷⁸ | 585 | 498 | 85.13

Table 3—Broadcast TV Entity Data
TV Broadcast Stations (as of August 8, 2025): Affected entity | SBA size standard ($47 million): # Licensed | SBA size standard ($47 million): Small firms ⁷⁹ | SBA size standard ($47 million): % Small entities
Television Stations (full power) | 1,767 | 1,672 | 94.68
Commercial (full power) | 1,384 | 1,289 | 93.1
Noncommercial educational (NCE) | 383 | 383 | 100
Class A TV | 383 | 383 | 100
Low Power (LPTV) | 1,780 | 1,780 | 100
TV Translators | 3,094 | 3,094 | 100

Table 4—Cable Entities Data
Cable entities | Size standard | Total firms | Small firms | % Small firms in industry
Cable System Operators (Telecom Act Standard) Small Cable Operator | Serves fewer than 498,000 subscribers, either directly or through affiliates | 530 | 524 | 98.87

D. Description of Economic Impact and Projected Reporting, Recordkeeping, and Other Compliance Requirements for Small Entities

⁷⁷ Affected Entities in this industry include all reporting fixed local service providers (CLECs & Incumbent LECs).

⁷⁸ Affected Entities in this industry include all reporting wireless carriers and service providers.

⁷⁹ All NCE, Class A TV, LPTV and TV Translators are presumed to be small entities under the above SBA small business size standard, given the SBA's large annual receipts threshold for this industry and the nature of these television station licensees.

82. The RFA directs agencies to describe the economic impact of proposed rules on small entities, as well as projected reporting, recordkeeping and other compliance requirements, including an estimate of the classes of small entities which will be subject to the requirements and the type of professional skills necessary for preparation of the report or record.

83. The FNPRM seeks comment on a range of potential changes to existing reporting, recordkeeping, or other compliance requirements that, if implemented, would impact small entities to some degree. In the FNPRM, the Commission proposes to permit voluntary simulcasting and tentatively concludes that it should eliminate the local simulcasting requirement for stations that transition to ATSC 3.0. Small and other Next Gen TV broadcast stations would be able to choose whether they want to fully transition to ATSC 3.0 without a simulcast (i.e. flash-cut or terminate their existing 1.0 simulcast(s)) or whether they want to begin, or continue, to simulcast in ATSC 1.0. The Commission also proposes to immediately eliminate the “substantially similar” rule, removing the requirement that the programming aired on a Next Gen TV station's ATSC 1.0 simulcast channel be substantially similar to that of the primary video programming stream on the ATSC 3.0 channel. In addition, the Commission proposes to eliminate the 95 percent coverage threshold for expedited application processing and only require that the originating station is located the same DMA as its host station and its host station meets a minimum coverage requirement (e.g., a station's community of licensee (COL)). Similarly, the FNPRM proposes to revise the children's television multicast coverage rule to require only COL coverage for full power stations, rather than 95 percent population coverage. The Commission also proposes to allow Class A stations to air children's programming on a multicast stream so long as the multicast stream host complies with the revised coverage requirements of section 73.6029(c). In addition, the Commission proposes to allow simulcasting ATSC 1.0 stations to use MPEG-4 (a more efficient compression method) for multicast streams. It also seeks comment on whether to extend this flexibility to other situations or broadcasters, and whether, if MPEG-4 is permitted for any broadcasters, it should be added to the broadcasting standard in sections 73.8000(a) and 73.682(d) of our rules (requiring manufacturer compliance) or whether we should provide an exception in section 15.117(b) in the same manner as the 3.0 standard in section 73.682(f) of our rules (which did not impose a requirement on manufacturers).

84. The Commission also seeks comment on issues related to these tentative conclusions and proposals. These include: ATSC 3.0 tuner and labeling requirements and television interface designs; the encryption of broadcast signals, including related costs and benefits for small and other stakeholders; and MVPD carriage of ATSC 3.0, including mandatory carriage of 3.0 signals, and the technical challenges, costs, and other burdens and benefits related to MVPD carriage, specifically by smaller and rural MVPD systems. Finally, the FNPRM seeks comment on a number of other outstanding ATSC 3.0 issues, including an eventual sunset of ATSC 1.0 service, continued compliance with A/322, options to offset potential consumer costs related to converter devices, accessibility requirements, emergency alert requirements, requirements to provide a minimum amount of free over-the-air programming, privacy concerns, and pre-transition notice requirements.

85. Television broadcasters have been authorized to use the Next Gen TV (ATSC 3.0) standard on a voluntary, market-driven basis since 2017, allowing broadcasters to decide whether (and if so when) to deploy ATSC 3.0 service and bear the costs associated with such deployment. All broadcasters, including small entities, will need to undertake any costs or burdens associated with ATSC 3.0 service should they choose to do so. The item seeks comment on a requirement that MVPDs carry 3.0 signals, and MVPDs may consequently bear certain costs. The item also seeks comment on a mandate that all new television broadcast receivers be capable of receiving and displaying ATSC 3.0 signals, and manufactures consequently may also bear certain costs. We anticipate the information we receive in comments including, where requested, cost and benefit analyses, will help the Commission further identify and evaluate relevant compliance matters for small entities, including compliance costs and other burdens that may result from the inquiries we make in the FNPRM.

E. Discussion of Significant Alternatives Considered That Minimize the Significant Economic Impact on Small Entities

86. The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

87. The FNPRM discusses a number of proposals and related alternatives that may reduce economic burdens for small television stations and other broadcasters, if adopted. The proposals contained in this FNPRM would eliminate the requirement that Next Gen TV broadcasters simulcast in 1.0, although they are still permitted to do so, and reduce the requirements related to simulcasting. The Commission seeks comment on whether to allow broadcasters to flash-cut or terminate simulcasting 30 days after Federal Register publication of an Order, subject to viewer and MVPD notice requirements, or whether to end the simulcasting requirement on a different date. Regarding Next Gen TV tuner mandates, the Commission seeks comment on whether to adopt proposals to mandate that all new tuners receive and display ATSC 3.0 signals, or whether it is unnecessary at this time based on marketplace demand and availability. If such a mandate were adopted, the Commission asks whether small equipment manufactures would be allowed additional time to comply with the new rules. The FNPRM also seeks comment on encryption of over-the-air broadcast signals, and the costs of encryption for broadcasters and manufacturers, including small entities. The FNPRM also seeks comment on possible rules governing MVPD carriage of 3.0 signals, and possible exemptions for small MVPDs to limit the costs they would face.

88. The Commission's evaluation of the comments filed in this proceeding will shape the final conclusions it reaches, the final alternatives it considers, and the actions it ultimately takes in this proceeding to minimize any significant economic impact that may occur on small entities from the final rules that are ultimately adopted.

F. Federal Rules That May Duplicate, Overlap, or Conflict With the Proposed Rules

89. None.

VI. Ordering Clauses

90. It is ordered that, pursuant to the authority found in sections 1, 4, 7, 301, 303, 307, 308, 309, 316, 319, 325(b), 336, 338, 399b, 403, 534, and 535 of the Communications Act of 1934, as amended, 47 U.S.C. 151, 154, 157, 301, 303, 307, 308, 309, 316, 319, 325(b), 336, 338, 399b, 403, 534, and 535, this Fifth Further Notice of Proposed Rulemaking is hereby adopted and notice is hereby given of the proposals and tentative conclusions described in this Fifth Further Notice of Proposed Rulemaking.

91. It is further ordered that the Commission's Office of the Secretary, shall send a copy of this Fifth Further Notice of Proposed Rulemaking, including the Initial Regulatory Flexibility Analysis, to the Chief Counsel for the Small Business Administration (SBA) Office of Advocacy.

List of Subjects in 47 CFR Part 73 and 74

Communications equipment, Television.

Federal Communications Commission.
Marlene Dortch,
Secretary.

Proposed Rules

For the reasons discussed in the preamble, the Federal Communications Commission proposes to amend 47 CFR parts 73 and 74 as follows:

PART 73—RADIO BROADCAST SERVICES

1. The authority citation for part 73 continues to read as follows:

Authority: 47 U.S.C. 154, 155, 301, 303, 307, 309, 310, 334, 336, 339.

2. Amend § 73.624 by revising paragraph (b)(3) to read as follows:

§ 73.624 Digital television broadcast stations.

* * * * *

(b) * * *

(3) TV licensees or permittees that choose to broadcast an ATSC 3.0 signal (using the Next Gen TV transmission standard in § 73.682(f)) shall transmit at least one free over the air video programming stream on that signal that requires at most the signal threshold of a comparable received TV signal. TV licensees or permittees that choose to broadcast an ATSC 3.0 signal (using the Next Gen TV transmission standard in § 73.682(f)) may also simulcast the primary video programming stream on its ATSC 3.0 signal by broadcasting an ATSC 1.0 signal (using the TV transmission standard in § 73.682(d)) from another broadcast television facility within its local market in accordance with voluntary simulcasting as described in §§ 73.3801, 73.6029, and 74.782 of this chapter.

* * * * *

3. Amend § 73.682 by revising paragraphs (d)(1)(iii) and (iv) and (f)(1) to read as follows:

§ 73.682 TV transmission standards.

* * * * *

(d) * * *

(1) * * *

(iii) ATSC A/65C; and

(iv) ATSC A/72, Part 1: 2023, as provided for in §§ 73.3801(i)(1)(ii), 73.6029(i)(1)(ii), and 74.782(j)(1)(ii).

* * * * *

(f) * * *

(1) As an alternative to broadcasting an ATSC 1.0 signal using the DTV transmission standard set forth in paragraph (d) of this section, DTV licensees or permittees may choose to broadcast an ATSC 3.0 signal using the Next Gen TV transmission standard set forth in this paragraph (f).

* * * * *

4. Amend § 73.3801 by revising the introductory text of paragraph (a), paragraphs (b), (c), (f)(5), (f)(6)(ii)(C), (g)(1), (g)(4), the introductory text of paragraph (h)(1), paragraphs (h)(1)(i), (h)(2)(i), (h)(4)(i) and (ii), the introductory text of paragraphs (i) and (i)(1), and paragraph (i)(3) to read as follows:

§ 73.3801 Full Power Television Simulcasting During the ATSC 3.0 (Next Gen TV) Transition.

(a) Simulcasting arrangements. For purposes of voluntary simulcasting as described in paragraph (b) of this section, a full power television station may partner with one or more other full power stations or with one or more Class A, LPTV, or TV translator stations in a simulcasting arrangement for purposes of airing either an ATSC 1.0 or ATSC 3.0 signal on a host station's (i.e., a station whose facilities are being used to transmit programming originated by another station) facilities. Noncommercial educational television stations may participate in simulcasting arrangements with commercial stations.

* * * * *

(b) Voluntary simulcasting. A full power television station that chooses to air an ATSC 3.0 signal may simulcast the primary video programming stream of that signal in an ATSC 1.0 format, as well as any multicast stream(s) in the manner set forth in paragraph (i) of this section.

(c) Coverage requirements for the ATSC 1.0 simulcast signal. For full power broadcasters that elect temporarily to relocate their ATSC 1.0 signal to the facilities of a host station for purposes of deploying ATSC 3.0 service (and that convert their existing facilities to ATSC 3.0), the ATSC 1.0 simulcast signal must continue to cover the station's entire community of license (i.e., the station must choose a host from whose transmitter site the Next Gen TV station will continue to meet the community of license signal requirement over its current community of license, as required by § 73.618) and the host station must be assigned to the same Designated Market Area (DMA) as the originating station (i.e., the station whose programming is being transmitted on the host station).

* * * * *

(f) * * *

(5) Expedited processing. An application filed in accordance with the streamlined process in paragraph (f)(3) of this section will receive expedited processing provided, for stations requesting to air an ATSC 1.0 signal on the facilities of a host station, that station must be assigned to the same DMA as the originating station and will provide ATSC 1.0 service to at least the community of license as required in paragraph (c) of this section.

(6) * * *

(ii) * * *

(C) Whether the ATSC 1.0 primary stream simulcast signal aired on the host station will serve at least the community of license as required in paragraph (c) of this section.

(g) * * *

(1) Commercial and noncommercial educational stations that terminate their ATSC 1.0 signal(s) or relocate their ATSC 1.0 signals (e.g., moving to a host station's facility, subsequently moving to a different host, or returning to its original facility) are required to air daily Public Service Announcements (PSAs) or crawls every day for 30 days prior to the date that the stations will terminate ATSC 1.0 operations on their existing facilities. Stations that transition directly to ATSC 3.0 will be required to air daily PSAs or crawls every day for 30 days prior to the date that the stations will terminate ATSC 1.0 operations.

* * * * *

(4) Content of PSAs or crawls. For stations terminating or relocating their ATSC 1.0 signals or transitioning directly to ATSC 3.0, each PSA or crawl must provide all pertinent information to consumers.

(h) * * *

(1) Next Gen TV stations terminating their ATSC 1.0 signal(s) or relocating their ATSC 1.0 signals (e.g., moving to a temporary host station's facilities, subsequently moving to a different host, or returning to its original facility) must provide notice to MVPDs that:

(i) No longer will be required to carry the station's ATSC 1.0 signal due to the termination or relocation; or

* * * * *

(2) * * *

(i) Date and time of any ATSC 1.0 termination or channel changes;

* * * * *

(4) * * *

(i) Next Gen TV stations must provide notice at least 90 days in advance of terminating or relocating their ATSC 1.0 signals.

(ii) If the anticipated date of the ATSC 1.0 signal termination or relocation changes, the station must send a further notice to affected MVPDs informing them of the new anticipated date.

* * * * *

(i) Multicast streams. A Next Gen TV station is not required to license, under paragraph (f) of this section, a “guest” multicast programming stream that it originates and which is aired on a host station. If it chooses to do so, it and each of its licensed guest multicast streams must comply with the requirements of this section (including those otherwise applicable only to primary streams), except as otherwise provided in this paragraph. For purposes of this section, a “multicast” stream refers to a video programming stream other than the primary video programming stream.

(1) 1.0 Multicast streams. A Next Gen TV station may license its simulcast or non-simulcast guest ATSC 1.0 multicast stream(s) aired on one or more ATSC 1.0 hosts pursuant to paragraph (f) of this section.

* * * * *

(3) Children's television. A Next Gen TV station may rely on a multicast stream it is airing via a host partner to comply with the Commission's children's television programming requirement in § 73.671. Such a stream must either be carried on the same host as the Next Gen TV station's primary stream, or on a host that serves at least the community of license (see § 73.618) served by the Next Gen TV station's pre-transition 1.0 signal.

* * * * *

5. Amend § 73.6029 by:

a. Revising the introductory text of paragraph (a),

b. Revising paragraphs (b), (c)(2) and (3), (f)(5), (f)(6)(ii)(C), (g)(1), (g)(4),

c. Revising the introductory text of paragraph (h)(1),

d. Revising paragraph (h)(1)(i), (h)(2)(i), (h)(4)(i) and (ii),

e. Revising the introductory text of paragraphs (i) and (i)(1), and

f. Revising paragraph (i)(3).

The revisions read as follows:

§ 73.6029 Class A television simulcasting during the ATSC 3.0 (Next Gen TV) transition.

(a) Simulcasting arrangements. For purposes of voluntary simulcasting in paragraph (b) of this section, a Class A television station may partner with one or more other Class A stations or with one or more full power, LPTV, or TV translator stations in a simulcasting arrangement for purposes of airing either an ATSC 1.0 or ATSC 3.0 signal on a host station's (i.e., a station whose facilities are being used to transmit programming originated by another station) facilities.

* * * * *

(b) Voluntary simulcasting. A Class A television station that chooses to air an ATSC 3.0 signal may simulcast the primary video programming stream of that signal in an ATSC 1.0 format, as well as any multicast stream(s) in the manner set forth in paragraph (i) of this section.

(c) * * *

(2) May not relocate its ATSC 1.0 simulcast signal more than the distance permitted under § 74.787(b)(2); and

(3) Must select a host station assigned to the same Designated Market Area (DMA) as the originating station (i.e., the station whose programming is being transmitted on the host station).

* * * * *

(f) * * *

(5) Expedited processing. An application filed in accordance with the streamlined process in paragraph (f)(3) of this section will receive expedited processing provided, for stations requesting to air an ATSC 1.0 signal on the facilities of a host station, that station must be assigned to the same DMA as the originating station and will meet the coverage requirements in paragraph (c) of this section.

(6) * * *

(ii) * * *

(C) Whether the ATSC 1.0 primary stream simulcast signal aired on the host station will meet the coverage requirements in paragraph (c) of this section.

(g) * * *

(1) Class A stations that terminate their ATSC 1.0 signal(s) or relocate their ATSC 1.0 signals (e.g., moving to a host station's facilities, subsequently moving to a different host, or returning to its original facility) will be required to air daily Public Service Announcements (PSAs) or crawls every day for 30 days prior to the date that the stations will terminate ATSC 1.0 operations on their existing facilities. Stations that transition directly to ATSC 3.0 will be required to air daily PSAs or crawls every day for 30 days prior to the date that the stations will terminate ATSC 1.0 operations.

* * * * *

(4) Content of PSAs or crawls. For stations terminating or relocating their ATSC 1.0 signals or transitioning directly to ATSC 3.0, each PSA or crawl must provide all pertinent information to consumers.

(h) * * *

(1) Next Gen TV stations terminating their ATSC 1.0 signal(s) or relocating their ATSC 1.0 signals (e.g., moving to a temporary host station's facilities, subsequently moving to a different host, or returning to its original facility) must provide notice to MVPDs that:

(i) No longer will be required to carry the station's ATSC 1.0 signal due to the termination or relocation; or

* * * * *

(2) * * *

(i) Date and time of any ATSC 1.0 termination or channel changes;

* * * * *

(4) * * *

(i) Next Gen TV stations must provide notice at least 90 days in advance of terminating or relocating their ATSC 1.0 signals.

(ii) If the anticipated date of the ATSC 1.0 signal termination or relocation changes, the station must send a further notice to affected MVPDs informing them of the new anticipated date.

* * * * *

(i) Multicast streams. A Next Gen TV station is not required to license, under paragraph (f) of this section, a “guest” multicast programming stream that it originates and which is aired on a host station. If it chooses to do so, it and each of its licensed guest multicast streams must comply with the requirements of this section (including those otherwise applicable only to primary streams), except as otherwise provided in this paragraph. For purposes of this section, a “multicast” stream refers to a video programming stream other than the primary video programming stream.

(1) 1.0 Multicast streams. A Next Gen TV station may license its simulcast or non-simulcast guest ATSC 1.0 multicast stream(s) aired on one or more ATSC 1.0 hosts pursuant to paragraph (f) of this section.

* * * * *

(3) Children's television. A Next Gen TV station may rely on a multicast stream it is airing via a host partner to comply with the Commission's children's television programming requirement in § 73.671. Such a stream must either be carried on the same host as the Next Gen TV station's primary stream, or on a host that serves at least the area required under paragraph (c) of this section.

* * * * *

6. Amend § 73.8000 by adding paragraph (a)(2)(vii) to read as follows:

§ 73.8000 Incorporation by reference.

* * * * *

(a) * * *

(2) * * *

(vii) ATSC Standard A/72, Part 1:2023-04, “Video System Characteristics of AVC in the ATSC Digital Television System,” (Apr. 25, 2023), IBR approved for § 73.682.

* * * * *

PART 74—EXPERIMENTAL RADIO, AUXILIARY, SPECIAL BROADCAST AND OTHER PROGRAM DISTRIBUTIONAL SERVICES

7. The authority citation for part 74 continues to read as follows:

Authority: 47 U.S.C. 154, 302a, 303, 307, 309, 310, 325, 336 and 554.

8. Amend § 74.782 by

a. Revising the introductory text of paragraph (a);

b. Revising paragraphs (b), (d)(2) and (3), (g)(5);

c. Revising the introductory text of paragraph (g)(6)(i) and paragraph (g)(6)(i)(D);

d. Revising the introductory text of paragraph (g)(6)(ii);

e. Revising paragraphs (g)(6)(ii)(C), (h)(1), (h)(4);

f. Revising the introductory text of paragraph (i)(1);

g. Revising paragraphs (i)(1)(i), (i)(2)(i), (i)(3), (i)(4)(i) and (ii);

h. Revising the introductory text of paragraph (j) and (j)(1) and paragraph (j)(2);

i. Removing and reserving paragraph (j)(3); and

j. Revising the introductory text of paragraph (j)(4).

The revisions read as follows:

§ 74.782 Low power television and TV translator simulcasting during the ATSC 3.0 (Next Gen TV) transition.

(a) Simulcasting arrangements. For purposes of voluntary simulcasting in paragraph (b) of this section, a low power television (LPTV) or TV translator station may partner with one or more other LPTV or TV translator stations or with one or more full power or Class A stations in a simulcasting arrangement for purposes of airing either an ATSC 1.0 or ATSC 3.0 signal on a host station's (i.e., a station whose facilities are being used to transmit programming originated by another station) facilities.

* * * * *

(b) Voluntary simulcasting. An LPTV or TV translator station that elects voluntarily to simulcast may simulcast the primary video programming stream of their ATSC 3.0 signal in an ATSC 1.0 format, as well as any multicast stream(s) in the manner set forth in paragraph (j) of this section.

* * * * *

(d) * * *

(2) May not relocate its ATSC 1.0 simulcast signal more than the distance permitted under § 74.787(b)(2); and

(3) Must select a host station assigned to the same Designated Market Area (DMA) as the originating station (i.e., the station whose programming is being transmitted on the host station).

* * * * *

(g) * * *

(5) Expedited processing. An application filed in accordance with the streamlined process in paragraph (g)(3) of this section will receive expedited processing provided, for stations requesting to air an ATSC 1.0 signal on the facilities of a host station, that station must be assigned to the same DMA as the originating station and will meet the coverage requirements in paragraph (d) of this section .

(6) * * *

(i) An application in paragraph (g)(2) of this section must include the following information:

* * * * *

(D) A web link to the exhibit described in paragraph (j) of this section, if applicable; and

* * * * *

(ii) If an application in paragraph (g)(2) of this section includes a request to air an ATSC 1.0 signal on the facilities of a host station or stations, the broadcaster must, in addition to the information in paragraph (g)(6)(i) of this section, also indicate on the application:

* * * * *

(C) Whether the ATSC 1.0 primary stream simulcast signal aired on the host station will meet the coverage requirements in paragraph (d) of this section.

* * * * *

(h) * * *

(1) LPTV and TV translator stations that elect voluntarily to simulcast and that terminate their ATSC 1.0 signal(s) or relocate their ATSC 1.0 signals (e.g., moving to a host station's facilities, subsequently moving to a different host, or returning to its original facility) will be required to air daily Public Service Announcements (PSAs) or crawls every day for 30 days prior to the date that the stations will terminate ATSC 1.0 operations on their existing facilities. LPTV and TV translator stations that transition directly to ATSC 3.0 will be required to air daily Public Service Announcements (PSAs) or crawls every day for 30 days prior to the date that the stations will terminate ATSC 1.0 operations.

* * * * *

(4) Content of PSAs or crawls. For stations terminating or relocating their ATSC 1.0 signals or transitioning directly to ATSC 3.0, each PSA or crawl must provide all pertinent information to consumers.

(i) * * *

(1) Next Gen TV stations terminating their ATSC 1.0 signal(s) or relocating their ATSC 1.0 simulcast signals (e.g., moving to a temporary host station's facilities, subsequently moving to a different host, or returning to its original facility) must provide notice to MVPDs that:

(i) No longer will be required to carry the station's ATSC 1.0 signal due to the termination or relocation; or

* * * * *

(2) * * *

(i) Date and time of any ATSC 1.0 termination or channel changes;

* * * * *

(3) If any of the information in paragraph (i)(2) of this section changes, an amended notification must be sent.

(4) * * *

(i) Next Gen TV stations must provide notice at least 90 days in advance of terminating or relocating their ATSC 1.0 signals.

(ii) If the anticipated date of the ATSC 1.0 service termination or relocation changes, the station must send a further notice to affected MVPDs informing them of the new anticipated date.

* * * * *

(j) Multicast streams. A Next Gen TV station is not required to license, under paragraph (g) of this section, a “guest” multicast programming stream that it originates and which is aired on a host station. If it chooses to do so, it and each of its licensed guest multicast streams must comply with the requirements of this section (including those otherwise applicable only to primary streams), except as otherwise provided in this paragraph. For purposes of this section, a “multicast” stream refers to a video programming stream other than the primary video programming stream.

(1) 1.0 Multicast streams. A Next Gen TV station may license its simulcast or non-simulcast guest ATSC 1.0 multicast stream(s) aired on one or more ATSC 1.0 hosts pursuant to paragraph (g) of this section.

* * * * *

(2) 3.0 Multicast streams. A Next Gen TV station may license its guest ATSC 3.0 multicast stream(s) aired on one or more ATSC 3.0 hosts pursuant to paragraph (g)of this section.

(3) [Reserved]

(4) Application exhibit required. A Next Gen TV station seeking to license hosted multicast streams must prepare and host on its public website (or its Online Public Inspection File if the station does not have a dedicated website) the exhibit referenced in paragraph (g)(6)(i)(D) of this section. The exhibit must contain the following:

* * * * *

9. Amend § 74.795 by revising paragraph (b)(1) to read as follows:

§ 74.795 Low power TV and TV translator transmission system facilities.

* * * * *

(b) * * *

(1) The transmitter shall be designed to produce digital television signals that can be satisfactorily viewed on consumer receiving equipment based on the digital broadcast television transmission standard in § 73.682(d) or § 73.682(f) of this chapter;

* * * * *

[FR Doc. 2025-20437 Filed 11-19-25; 8:45 am]

BILLING CODE 6712-01-P